DEPARTMENT OF STATE

[Public Notice 3566]

Office of Protocol; Gifts to Federal Employees From Foreign Government Sources Reported to Employing Agencies in Calendar Year 2000

The Department of State submits the following comprehensive listing of the statements which, as required by law, Federal employees filed with their employing agencies during calendar year 2000 concerning gifts received from foreign government sources. The compilation includes reports of both tangible gifts and gifts of travel or travel expenses of more than minimal value, as defined by statute.

Publication of this listing in the Federal Register is required by section 7342(f) of Title 5, United States Code, as added by section 515 (a)(1) of the Foreign Relations Authorization Act, Fiscal Year 1978 (Public Law 95-105, August 17, 1977, 91 Stat. 865).

Dated: January 15, 2001.
David Carpenter,
Acting Under Secretary for Management.

Executive Office of the President—Report of Tangible Gifts
[Report of Travel or Expenses of Travel—2000]
Name and title of person accepting the gift on behalf of the U.S. Government | Gift, date of acceptance on behalf of the U.S. Government, estimated value, and current disposition or location | Identity of foreign donor and government | Circumstances justifying acceptance
Appalachian Regional Commission
Jesse L. White, Jr.—Federal Co-Chairman | Recd—April 3-11, 2000; Est. Value—$10,410.00; Expended for airfare, hotel, and meals | Agriculture Department of Western Australia, Australia | Guest speaker and panelist at a conference on rural economic development.
Commerce
J. Michael Rowe, Director, Center for Neutron Research | Recd—April 18, 2000; Est. Value—$452.00; Expended for lodging and meals | Institute of Nuclear Energy Research, Taipei, Taiwan | To participate in a review of a proposed new research reactor.
J. Michael Rowe, Director, Center for Neutron Research | Recd—April 18, 2000; Est. Value—$868.00; Expended for lodging and meals | Australian Nuclear Science and Technology Organization, Sydney, Australia | To participate in a review of solicitation and bidding for a new research reactor in Australia.
Willie E. May, Chief, Analytical Chemistry Division | Recd—April 12, 2000; Est. Value—$676.00; Expended for lodging and airfare | Centro de Investigacion en Ciencia Aplicada Y Technologia Avanzada del Instituto, Politecnico Nacional, Mexico City, Mexico | To speak at the First International Meeting on Metrology.
NASA
Anne Marie Chaka, Spouse | Academic fellowship stipened for spouse; Recd—January 1-March 1, 2000; Est. Value—$6000.00 | Fritz-Haber Institute, Max Planck Society, Germany | Max Planck Fellowship arranged for spouse through her employer, The Lubrizol Corporation.
Anne Marie Chaka, Spouse | Expended for airfare, hotel and meals for spouse; Recd—July 4, 2000; Est. Value—$900.00 | University of Padua, Italy | Spouse presented invited seminar on surface physics.
Anne Marie Chaka, Spouse | Expended for airfare, hotel and meals for spouse; Recd—January 1-July 7, 2000; Est. Value—$1500.00 | CECAM (European Science Foundation) | Spouse presented invited seminar on surface physics in Lyons, France.
Michelle Hawes, Spouse | Expended for airfare for spouse; Recd—October 31, 2000; Est. Value—$449.68 | Russian Aviation and Space Agency | Commercial flights from Moscow to Baikonur unavailable. Russian Agency provided transportation.
U.S. House of Representatives
Jennifer J. Bottegal, Rep. Cramer | Food, lodging and transportation in Moscow; Recd—April 15-22, 2000; Est. Value—$not submitted | Russia | Authorized by 5 U.S.C. 7342(c)(1)(B)(ii).
David McIntosh, Member of Congress | Food, lodging and travel within State of Israel; Recd—January 6-14, 2000; Est. Value—$not submitted | The State of Israel | Authorized by 5 U.S.C. 7342(c)(1)(B)(ii).
M. Douglass Bellis, Legislative Counsel | Food, lodging and ground transportation in Dublin, Ireland | Ireland | Authorized by 5 U.S.C. 7342(c)(1)(B)(ii).
M. Douglass Bellis, Legislative Counsel | Meals and lodging and transportation in Moscow; Recd—April 15-22, 2000; Est. Value—$not submitted | Russia | Authorized by 5 U.S.C. 7342(c)(1)(B)(ii).
Mark Kirk, International Relations Comm | Air transportation from Amman to Petra, Jordan and back; Recd—April 2, 1999; Est. Value—$not submitted | Hashemite Kingdom of Jordan | Authorized by 5 U.S.C. 7342(c)(1)(B)(ii).
John Steele, Rep. McIntosh | Food, lodging and travel within State of Israel; Recd—January 6-14, 2000; Est. Value—$not submitted | The State of Israel | Authorized by 5 U.S.C. 7342(c)(1)(B)(ii).
Ethan Cooper, Rep. Curt Weldon | Food, lodging and transportation in Moscow; Recd—April 15-22, 2000 | Russia | Authorized by 5 U.S.C. 7342(c)(1)(B)(ii).
U.S. Senate
Diana Enzi, spouse of Senator Enzi | Transportation with Slovenia via helicopter to participate in official fact-finding events; Recd—May 31, 2000; Est. Value—$not submitted | Government of Republic of Slovenia | Non-acceptance would cause host government embarrassment.
Brian McKeon, Minority Counsel Foreign Relations Committee | Transportation from Bogota to bases in Southern Colombia and return to Bogota via National Police aircraft, including lunch; Recd—March 14, 2000; Est. Value—$not submitted | Government of Colombia | Official travel to review U.S.-Colombian counter-narcotics programs. Commercial transportation not available.
Marcia Lee, Professional Staff, Foreign Relations Committee | Transportation from Bogota to Cartagena and return; Recd—April 19-20, 2000; Est. Value—$not submitted | Government of Colombia | Invited by President to accompany him on the flight to Cartagena. No commercial flight available on return to Bogota.
Brian McKeon, Minority Counsel Foreign Relations Committee | Transportation from Bogota to Cartagena and return; Recd—April 19-20, 2000; Est. Value—$not submitted | Government of Colombia | Invited by President to accompany him on the flight to Cartagena. No commercial flight available on return to Bogota.
Henry (Bob) Nickel, Secretary of NATO PA Delegation, Office of Senator Roth | Transportation within Slovenia via helicopter to participate in official fact-finding events; Recd—May 31, 2000; Est. Value—$not submitted | Government of Republic of Slovenia | Non-acceptance would cause host government embarrassment.
William V. Roth, Jr., U.S. Senator | Transportation within Australia via bus, including some meals; Recd—January 6-14, 2000; Est. Value—$not submitted | Government of Australia | Official travel to participate in Asia Pacific Parliamentary Forum.
Harry Reid, U.S. Senator | Transportation within Egypt via small aircraft, including meals; Recd—January 16, 2000; Est. Value—$not submitted | Arab Republic of Egypt | Non-acceptance would cause host government embarrassment.
Landra Reid, Spouse of Senator Reid | Transportation within Egypt via small aircraft, including meals; Recd—January 16, 2000; Est. Value—$not submitted | Arab Republic of Egypt | Non-acceptance would cause host government embarrassment.
Ranit Schmelzer, Press Secretary to Democratic Leader | Transportation within Egypt via small aircraft, including meals; Recd—January 16, 2000; Est. Value—$not submitted | Arab Republic of Egypt | Non-acceptance would cause host government embarrassment.
George V. Voinovich, U.S. Senator | Transportation within Slovenia via helicopter to participate in official fact-finding events; Recd—May 31, 2000; Est. Value—$not submitted | Government of Republic of Slovenia | Non-acceptance would cause host government embarrassment.
Janet Voinovich, spouse of Senator Voinovich | Transportation within Slovenia via helicopter to participate in official fact-finding events; Recd—May 31, 2000; Est. Value—$not submitted | Government of Republic of Slovenia | Non-acceptance would cause host government embarrassment.
Sally Walsh, Director, Interparliamentary Services | Transportation within Egypt via small aircraft, including meals; Recd—January 16, 2000; Est. Value—$not submitted | Arab Republic of Egypt | Non-acceptance would cause host government embarrassment.
Marcia Lee, Professional Staff, Foreign Relations Committee | Transportation from Bogota to bases in Southern Colombia and return to Bogota via National Police aircraft, including lunch; Recd—March 14, 2000; Est Value—$not submitted | Government of Colombia | Official travel to review U.S.-Colombian counter-narcotics programs. Commercial transportation not available.
Charles E. Grassley, U.S. Senator | Transportation within Slovenia via helicopter to participate in official fact-finding events; Recd—May 31, 2000; Est. Value—$not submitted | Government of Republic of Slovenia | Non-acceptance would cause host government embarrassment.
Daniel Bob, Special Assistant Asian and Pacific Affairs, Senator Roth | Transportation within Australia via bus, including some meals; Recd—January 6-14, 2000; Est. Value—$not submitted | Government of Australia | Official travel to participate in Asia Pacific Parliamentary Forum.
Mike Enzi, U.S. Senator | Transportation within Slovenia via helicopter to participate in official fact-finding events; Recd—May 31, 2000; Est. Value—$not submitted | Government of Republic of Slovenia | Non-acceptance would cause host government embarrassment.
Kolan Davis, Chief Counsel and Legislative Director, Senator Grassley | Transportation within Slovenia via helicopter to participate in official fact-finding events; Recd—May 31, 2000; Est. Value—$not submitted | Government of Republic of Slovenia | Non-acceptance would cause host government embarrassment.
Christopher J. Dodd, U.S. Senator | Transportation within Egypt via small aircraft, including meals; Recd—January 16, 2000; Est. Value—$not submitted | Arab Republic of Egypt | Non-acceptance would cause host government embarrassment.
Randy DeValk, Legislative Assistant to Democratic Leader | Transportation within Egypt via small aircraft, including meals; Recd—January 16, 2000; Est. Value—$not submitted | Arab Republic of Egypt | Non-acceptance would cause host government embarrassment.
Linda Daschle, spouse of Senator Daschle | Transportation within Egypt via small aircraft, including meals; Recd—January 16, 2000; Est. Value—$not submitted | Arab Republic of Egypt | Non-acceptance would cause host government embarrassment.
Julia Hart, Professional Staff, Office of Interparliamentary Service | Transportation within Slovenia via helicopter to participate in official fact-finding events; Recd—May 31, 2000; Est. Value—$not submitted | Government of Republic of Slovenia | Non-acceptance would cause host government embarrassment.
Tom Daschle, U.S. Senator | Transportation within Egypt via small aircraft, including meals; Recd—January 16, 2000; Est. Value—$not submitted | Arab Republic of Egypt | Non-acceptance would cause host government embarrassment.
Jackie Clegg, spouse of Senator Dodd | Transportation within Egypt via small aircraft including meals; Recd—January 16, 2000; Est. Value—$not submitted | Arab Republic of Egypt | Non acceptance would cause host government embarrassment.
Ian Brzezinksi, Professional Staff, Foreign Relations Committee | Transportation within Slovenia via helicopter to participate in official fact-finding events; Recd—May 31, 2000; | Government of Republic of Slovenia | Non-acceptance would cause host government embarrassment.
Daniel K. Akaka, U.S. Senator | Transportation within Egypt, including meals during official travel; Recd—January 16, 2000; East Value—$not submitted | Arab Republic of Egypt | Non-acceptance would cause host government embarrassment.
Millie Akaka, spouse of Senator Akaka | Transportation within Egypt including meals during official travel; Recd—January 16, 2000; Est. Value—$not submitted | Arab Republic of Egypt | Non acceptance would cause host government embarrassment.
Joseph R. Biden, Jr., U.S. Senator. | Lodging at Presidential Guest House; accompanied President on aircraft from Bogota to Catagena and on round trip to a Colombian national park; transportation from Cartagena to Port of Spain, Trinidad; Recd—April 19-21; Est. Value—$not submitted | Government of Republic of Colombia | Official travel to review U.S.-Colombian counter-narcotics programs. The military transport that had been authorized for Trinidad trip developed mechanical problems and U.S. government plane not available.
Barbara Grassley, spouse of Senator Grassley | Transportation within Slovenia via helicopter to participate in official fact-finding events; Recd—May 31, 2000; Est. Value—$not submitted | Government of Republic of Slovenia | Non-acceptance would cause host government embarrasment.
Air Force
Col. Neil Kacena, U.S. Liaison Office, Doha, Qatar | Silver and gold rosewater decanter, incense burner, and coffee pot; Recd—July 1, 1994; Ext. Value—$1000.00; On official display at USLO in Doha, Qatar | Qatari Assistant Chief of Staff for Operations and Training, Brigadier General Mohammed bin Fahd Al-Thani | Non-acceptance would have caused embarrassment to donor and U.S. Government.
Colonel Bruce Kerins, Chief, U.S. Liaison Office, Doha, Qatar | Inscribed and encased gold Arabic coffee pot and cup; Recd—July 3, 2000; Est. Value—$1000.00; On official display at USLO in Doha, Qatar | General Headquarters Chief of Staff, Logistics, Qatari Armed Forces | Non-acceptance would have caused embarrassment to donor and U.S. Government.
Colonel Frederick R. Rauch II, Commander, 320th Air Expeditionary Group, Saudi Arabia | Sword approx. 2½″ long steel blade, small white plastic handle with gold ornamentation, in gold sheath; Recd—July 23, 2000; Est. Value—$400.00; Pending turn in to GSA | H.R.H. Abdul Aziz Bin Fahad Bin Abdul Aziz Saud, son of the King of Saudi Arabia | Non-acceptance would have caused embarrassment to donor and U.S. Government.
General Merrill McPeak, Former Chief of Staff, USAF | Diamond and platinum necklace, 4 platinum stars with diamond insets, Approx. ½ carat, on 18-inch platinum and silver box chain; Recd—December 22, 1994; Est. Value—$8000.00; Turned into GSA on September 28, 2000 | Republic of Korea | Non-acceptance would have caused embarrassment to donor and U.S. Government.
General Michael E. Ryan, Chief of Staff, USAF, Washington, D.C | Breitling emergency watch, serial #1476; Recd—December 29, 1999; Est. Value—$4000.00; Turned in to GSA on March 24, 2000 | Lieutenant General Carrel, Swiss Air Force Chief of Staff | Non-acceptance would have caused embarrassment to donor and U.S. Government.
General Michael E. Ryan, Chief of Staff, USAF, Washington, D.C | Breitling professional aerospace watch, serial #17090; Recd—October 19, 2000; Est. Value—$3300.00; Pending turn in to GSA | Brigadier General Khalid, Air Chief for the United Arab Emirates | Non-acceptance would have caused embarrassment to donor and U.S. Government.
General Michael E. Ryan, Chief of Staff, USAF, Washington, D.C | Silver horse and carriage figurine; Recd—August 25, 2000; Est. Value—$250.00; On official display at Air House, CSAF's residence | Vice Air Marshall Jamal Uddin Ahmed, Air Chief, Bangladesh | Non-acceptance would have caused embarrassment to donor and U.S. Government.
General Michael E. Ryan, Chief of Staff, USAF, Washington, D.C | Lladro aviator statute; Recd—June 26, 2000; Est. Value—$595.00; On official display at Air House, CSAF's residence | General Juan Antonio Lombo Lopez, Air Chief, Spain | Non-acceptance would have caused embarrassment to donor and U.S. Government.
General Michael E. Ryan, Chief of Staff, USAF, Washington, D.C | Oriental rug, 3′ × 5′; Recd—February 4, 2000; Est. Value—$300.00; On official display at Air House, CSAF's residence | General Tantawi, Chief of Defense, Egypt | Non-acceptance would have caused embarrassment to donor and U.S. Government.
General Michael E. Ryan, Chief of Staff, USAF, Washington, D.C | Samurai sword with stand and helmet; Recd—March 28, 2000; Est. Value—$325.00; On official display at Air House, CSAF's residence | Major General Kunio Orita, 6th Air Wing Commander, Japanese Air Self Defense Force | Non-acceptance would have caused embarrassment to donor and U.S. Government.
General Michael E. Ryan, Chief of Staff, USAF, Washington, D.C | Breitling emergency watch, serial #3115; Recd—December 28, 1999; Est. Value—$4000.00; Turned in to GSA on March 24, 2000 | General Fornasiero, Italian Air Force Chief of Staff | Non-acceptance would have caused embarrassment to donor and U.S. Government.
General Michael E. Ryan, Chief of Staff, USAF, Washington, D.C | Men's coach watch, serial #W5165019039; Recd—December 21, 2000; Est. Value—$405.00; Turned in to GSA on March 24, 2000 | Brigadier General Yousel Al-Otabi, Kuwait Air Force Chief of Staff | Non-acceptance would have caused embarrassment to donor and U.S. Government.
General Michael E. Ryan, Chief of Staff, USAF, Washington, D.C | 24-inch gold chain; Recd—November 11, 2000, Est. Value—$775.00; Turned in to GSA on March 24, 2000 | General Tantawi, Chief Egyptian Defense 5 U.S.C. 7342(f)(4) | Non-acceptance would have caused embarrassment to donor and U.S. Government.
General Michael E. Ryan, Chief of Staff, USAF, Washington, D.C | 7½ inch gold scarab bracelet; Recd—November 11, 2000; Est. Value—$375.00; Turned in to GSA on March 24, 2000 | General Hattata, Egyptian MOD, Chief of Staff | Non-acceptance would have caused embarrassment to donor and U.S. Government.
General Michael E. Ryan, Chief of Staff, USAF, Washington, D.C | 6-inch gold key chain with cartouche of General Ryan; Recd—November 11, 1999; Est. Value—$850.00; Turned in to GSA on March 24, 2000 | General El Karaldy, Abu Suwayr Air Base, Egypt | Non-acceptance would have caused embarrassment to donor and U.S. Government.
General Michael E. Ryan, Chief of Staff, USAF, Washington, D.C | Oriental rug, 3′ × 5′; Recd—November 30, 1999; Est. Value—$300.00; On official display at Air House, CSAF's residence | General Tantawi, Chief of Defense, Egypt | Non-acceptance would have caused embarrassment to donor and U.S. Government.
General Michael E. Ryan, Chief of Staff, USAF, Washington, D.C | 4½ inch gold key chain in Queen Nephertiti bust; Recd—November 11, 1999; Turned in to GSA on March 24, 2000 | General Hammamm, Egyptian Southern Air Force Commander | Non-acceptance would have caused embarrassment to donor and U.S. Government.
General Michael E. Ryan, Chief of Staff, USAF, Washington, D.C | Ladies Fendi wristwatch, serial #770L001-359; Recd—December 21, 1999; Turned in to GSA on March 24, 2000 | Brigadier General Yousel Al-Otabi, Kuwait Airforce Chief of Staff | Non-acceptance would have caused embarrassment to donor and U.S. Government.
Lt. Col. Melinda M. Edwards, Branch Chief, Arabian Gulf Political Military Division, Directorate of Plans | Oil Painting (village scene in Bangladesh—24″ × 40″) Recd—March 24, 2000; Est. Value—$450.00; Approved for official use | Prince Turki Bin Nasser, Saudi Arabia | Non-acceptance would have caused embarrassment to donor and U.S. Government.
General Charles F. Wald, Commander, U.S. Central Command Air Force | Brietling men's aerospace watch, model E65062, serial #11694; Recd—May 10, 2000; Est. Value—$1800.00; On official display at HQ USCENTAF, Shaw Air Force Base, South Carolina | Brigadier Staff Pilot Khalid Abdullah Mubarak Al Buainnain Al Mazroue, Commander United Arab Emirates Air Force and Air Defense | Non-acceptance would have caused embarrassment to donor and U.S. Government.
Mrs. Michael E. Ryan, wife of Chief of Staff, USAF, Washington, D.C | Solid silver purse; Recd—August 25, 2000; Est. Value—$350.00; On official display at Air House, CSAF's residence | Vice Air Marshall Jamal Uddin Ahmed, Air Chief, Bangladesh | Non-acceptance would have caused embarrassment to donor and U.S. Government.
Mrs. Michael E. Ryan, wife of Chief of Staff, USAF, Washington, D.C | 18K gold necklace; Recd—October 10, 2000; Est. Value—$300.00; Pending turn in to GSA | Lt. General Litzerakos, Air Chief for Greece | Non-acceptance would have caused embarrassment to donor and U.S. Government.
T.H. Sheila Widnall, former SECAF | Persian rug, 6′ 7½″ × 4′5″ Recd—September 15, 1996; Est. Value—$800.00; Turned in to GSA on June 29, 2000 | Colonel Sultan Bin Harhan Al-Milhim, Saudi Arabia | Non-acceptance would have caused embarrassment to donor and U.S. Government.
Vice Admiral Douglas Katz, U.S. Liaison Office, Doha, Qatar | Gold sword in case, inscribed; Recd—July 1, 1994; Est. Value—$500.00; On official display at USLO in Doha, Qatar | Qatari Assistant Chief of Staff for Operations and Training, Brigadier General Mohammed bin Fahd Al-Thani | Non-acceptance would have caused embarrassment to donor and U.S. Government.
Central Intelligence Agency
An Agency Employee | 18kt yellow gold flat chain link necklace and matching bracelet, modern (2 dwt); Recd—June 10, 1999; Est. Value—$300.00; To be retained for official display | 5 U.S.C. 7342(f)(4) | Non-acceptance would have caused embarrassment to donor and U.S. Government.
George J. Tenet, Director | Georgian School, 20th Century Three Wise Men with Mary, Christ Child and Joseph in an arched interior, signed and dated 1943 in reverse oil on canvas (19¾ × 31½ inches); Recd—March 27, 2000; Est. Value—$300.00; To be retained for official display | 5 U.S.C. 7342(f)(4) | Non-acceptance would have caused embarrassment to donor and U.S. Government.
George J. Tenet, Director | Mother-of-pearl and black mother-of-pearl diorama of The Last Supper and a nativity scene, modern, architectural form with arched pediment applied Bethlehem/Gloria, above and inset panel depicting the nativity scene within the date 2000 (18×20×4); Recd—June 22, 2000; Est. Value—$500.00; To be retained for official display | 5 U.S.C. 7342(f)(4) | Non-acceptance would have caused embarrassment to donor and U.S. Government.
George J. Tenet, Director | Yellow gold mesh bracelet and pair of tassel pierced earrings, modern; Recd—December 7, 2000; Est. Value—$300.00; To be retained for official display | 5 U.S.C. 7342(f)(4) | Non-acceptance would have caused ambarrassment to donor and U.S. Government.
George J. Tenet, Director | Swiss 18kt yellow good tank-type man's wristwatch, retailed by Cartier, with date, minute and stop watch subsidiaries, No. C147722, with brown alligator style band; Recd—March 28, 2000; Est. Value—$300.00; To be retained for official display | 5USC 7342(f)(4) | Non-acceptance would have caused embarrassment to donor and U.S. Government.
George J. Tenet, Director | Neculai Paduraru (b. 1946) Women kneeling at an arched minor (20 × 13¾); Recd—August 16, 2000; Est. Value—$300.00; To be retained for official display | 5USC 7342 (f)(4) | Non-acceptance would have caused embarrassment to donor and U.S. Government.
George J. Tenet, Director | Mother-of-pearl and black mother-of-pearl diorama of The Last Supper and a nativity scene, modern, architectural form with arched cornice applied Bethlehem, above The Last Supper and an inset panel depicting the nativity scene within the year 2000 (13½ × 16¼ × 3¼); Recd—June 15, 2000; Est. Value—$300.00; To be retained for official display | 5USC 7342 (f)(4) | Non-acceptance would have caused embarrassment to donor and U.S. Government.
George J. Tenet, Director | 18kt. Yellow gold and turquoise two-piece ensemble, modern, designed by Imseeh, consisting of: a necklace with five Arabic inscription rectangular panels alternating with oval cabochon turquoise attached with chains; together with a pair of clip pierced earrings in a fitted blue simulated alligator case; Recd—May 25, 2000; Est. Value—$500.00; To be retained for official display | 5USC 7342 (f)(4) | Non acceptance would have caused embarrassment to donor and U.S. Government.
George J. Tenet, Director | Mother-of-pearl and black mother-of-pearl diorama of the Last Supper and the nativity scene, modern, architecturally formed as a city wall with the date 2000 and parquetry inlaid Bethlehem (22 × 3/12); Recd—April 20, 2000; Est. Value—$500.00; To be retained for official display | 5USC 7342 (f)(4) | Non-acceptance would have caused embarrassment to donor and U.S. Government.
George J. Tenet, Director | Kazakistan rug. 10 feet 3 inches by 6 feet 6 inches, modern, red ground with a vertical row of star medallions on blue to salmon ground, rosette and diamond guard border on red ground; Recd—March 29, 2000; Est. Value—$500.00; To be retained for official display | 5USC 7342 (f)(4) | Non-acceptance would have caused embarrassment to donor and U.S. Government.
George J. Tenet, Director | Sterling flat 24-piece table service, modern, pattern similar to Old English Thread pattern, consisting of: 6 place knives; six place forks; six tablespoons, six teaspoons (each marked 925K); Recd—March 30, 2000; Est. Value—$300.00; To be retained for official display | 5USC 7342 (f)(4) | Non-acceptance would have caused embarrassment to donor and U.S. Government.
George J. Tenet, Director | Gold and Silver inlaid iron-mounted brown leather sheath kindjal with a bond handle, modern, in a fitted fruit-wood wine red velvet lined case; Recd—March 27, 2000; Est. Value—$300.00; To be retained for official display | 5USC 7342 (f)(4) | Non-acceptance would have caused embarrassment to donor and U.S. Government.
George J. Tenet, Director | Set of five Italian silver medallions depicting various architectural scenes in Rome, modern, each marked 925 with star 124ML, in a red cloth mounted red velvet lined fitted box (2⅜″-3 oz.); Recd—March 31, 2000; Est. Value—$300.00; To be retained for official display | 5USC 7342 (f)(4) | Non acceptance would have caused embarrassment to donor and U.S. Government.
George J. Tenet, Director | Icon of St. George slaying the Dragon, modern, termpera on panel with a partial gift and embossed sliver oclad, fitted in a gift wood frame (8 × 7); Red—August 15, 2000; Est. Value—$300.00; To be retained for official display | 5USC 7342 (f)(4) | Non-acceptance would have caused embarrassment to donor and U.S. Government.
George J. Tenet, Director | Filigree silver and oval polished agate mounted sheath dagger, modern (24″ long); Reced—April 3, 2000; Est. Value—$300.00; To be retained for official display | 5USC 7342 (f)(4) | Non-acceptance would have caused embarrassment to donor and U.S. Government.
Commerce
T.H. William M. Daley, Secretary | Oil Painting (village scene in Bangladesh—24″ × 40″) Recd—March 24, 2000; Est. Value—$450.00; Approved for official use | H.E. Abdul Jalil, Minister of Commerce of Bangladesh/Dhaka | Non-acceptance would have caused embarrassment to donor and U.S. Government.
Defense
Alina L. Romanowski, DASD, Near Eastern and South Asian Affairs, ISA | Gold engraved bracelet; Recd—November 19, 2000; Est. Value—$725.00; OSD/WHS/Gift Vault | Field Marshall Hussein Tantawy, CINC Egyptian Armed Forces | Non-acceptance would have caused embarrassment to donor and U.S. Government.
Colonel Michael W. Callan, USAF Military Assistant to ASD/ISA | 4′8″ Camel Rug; Recd—November 22, 2000; Est. Value—$290.00; OSD/WHS/Gift Vault | Egyptian Field Marshall Hussein Tantawy, Commander in Chief of the Armed Forces | Non-acceptance would have caused embarrassment to donor and U.S. Government.
General Henry H. Shelton, Chairman Joint Chiefs of Staff | 3″ × 5′, hand woven area rug; Recd—February 14, 2000; Est. Value—$1,000.00; Official display/OJCS | Lt. General Hatata, Egyptian Chief of Defense | Non-acceptance would have caused embarrassment to donor and U.S. Government.
General Henry H. Shelton, Chairman Joint Chiefs of Staff | Decorative sword w/inlaid wood; Recd—June 30, 2000, Est. Value—$300.00; Official display/OJCS | General-Colonel Safar A. Abiyev. Minister of Defense, Republic of Azerbaijan | Non-acceptance would have caused embarrassment to donor and U.S. Government.
General Henry H. Shelton, Chairman Joint Chiefs of Staff | Antique Drachmas; Recd—November 30, 2000; Est. Value—$270.00; Official Display/OJCS | General Manoussos Paragioudakis, Chief Hellenic National Defense | Non-acceptance would have caused embarrassment to donor and U.S. Government.
General Henry H. Shelton, Chairman Joint Chiefs of Staff | Sword; Recd—April 5, 2000; Est. Value—$290.00; Official Display/OJCS | Field Marshall Ali Abdallah Salih, Yemen | Non-acceptance would have caused embarrassment to donor and U.S. Government.
General Henry H. Shelton, Chairman Joint Chiefs of Staff | Gold bracelet w/jewels; Recd—June 15, 2000; Est. Value—$720.00; Official display/OJCS | General Arpino, Italian Chief of Defense | Non-acceptance would have caused embarrassment to donor and U.S. Government.
General Henry H. Shelton, Chairman Joint Chiefs of Staff | Chess Set; Recd—March 21, 2000; Est. Value—$325.00; Reported to GSA for purchase | General Dem Enrique Cervantes Aquirre, Secretary of Defense | Non-acceptance would have caused embarrassment to donor and U.S. Government.
General Myers, Vice Chairman Joint Chiefs of Staff | Leather briefcase, burgundy; Recd—August 1, 2000; Est. Value—$270.00; OSD/WHS/Gift Vault | LTG Albanese, Argentina | Non-acceptance would have caused embarrassment to donor and U.S. Government.
Mrs. Carolyn Shelton, Spouse of Henry H. Shelton, Chairman Joint Chiefs of Staff | Gold and diamond necklace; Recd—April 18, 2000; Est. Value—$1360.00; Reported to GSA for purchase | Lt. General Hatata, Egyptian Chief of Defense | Non-acceptance would have caused embarrassment to donor and U.S. Government.
Mrs. Carolyn Shelton, Spouse of Henry H. Shelton, Chairman Joint Chiefs of Staff | Gold and diamond necklace; Recd—February 14, 2000; Est. Value—$1380.00; Official display/OJCS | Lt. General Hatata, Egyptian Chief of Defense | Non-acceptance would have caused embarrassment to donor and U.S. Government.
Mrs. Carolyn Shelton, Spouse of Henry H. Shelton, Chairman Joint Chiefs of Staff | Gold necklace and matching bracelet; Recd—September 14, 2000; Est. Value—$410.00; Official display/OJCS | Mrs. Tatyara Pirtskailiashvili, Spouse of the Georgian Chief of General Staff | Non-acceptance would have caused embarrassment to donor and U.S. Government.
T.H. William S. Cohen, Secretary | Silk carpet, 5′3″ × 4′, gold w/mosaic design; Recd—Unknown; Est. Value—$1000.00; OSD/WHS/Gift Vault | Unknown | Non-acceptance would have caused embarrassment to donor and U.S. Government.
T.H. William S. Cohen, Secretary | Painting of man and women outdoor scene; Recd—Unknown; Est. Value—$310.00; OSD/WHS/Gift Vault | Unknown | Non-acceptance would have caused embarrassment to donor and U.S. Government.
T.H. William S. Cohen, Secretary | Silver Candelabrum, 24″ × 25″ tall; Recd—Unknown; Est. Value—$290.00; OSD/WHS/Gift Vault | Unknown | Non-acceptance would have caused embarrassment to donor and U.S. Government.
T.H. William S. Cohen, Secretary | Gold and silver 18″ necklace w/L shaped diamond designs; in black felt case; Recd—November 21, 2000; Est. Value—$890.00; OSD/WHS/Gift Vault | Field Marshall Hussein Tantawy, CINC, Minister of Defense and Military Production | Non-acceptance would have caused embarrassment to donor and U.S. Government.
T.H. William S. Cohen, Secretary | Tea Set, eight piece; Recd—Unknown; Est. Value—$275.00; OSD/WHS/Gift Vault | Unknown | Non-acceptance would have caused embarrassment to donor and U.S. Government.
T.H. William S. Cohen, Secretary | Chess Set; Recd—Unknown; Est. Value—$420.00; OSD/WHS/Gift Vault | Possibly Middle Eastern, no individual indicated | Non-acceptance would have caused embarrassment to donor and U.S. Government.
T.H. William S. Cohen, Secretary | Commemorative Gold Coin 200gms; Recd—April 10, 2000; Est. Value—$360.00; OSD/WHS/Gift Vault | Unknown | Non-acceptance would have caused embarrassment to donor and U.S. Government.
T.H. William S. Cohen, Secretary | Silk Carpet, 5.5″ × 4.5′, gray and red colors; Recd—Unknown; Est. Value—$1000.00; OSD/WHS/Gift Vault | Field Marshall Hussein Tantawy, CINC of the Armed Forces, Minister of Defense and Military Production | Non-acceptance would have caused embarrassment to donor and U.S. Government.
T.H. William S. Cohen, Secretary | Bronze incense burner; Recd—Unknown; Est. Value—$270.00; OSD/WHS/Gift Vault | Chun Yong-teak, Minister of National Defense, Republic of Korea, Korean National Treasure Number 287 | Non-acceptance would have caused embarrassment to donor and U.S. Government.
T.H. William S. Cohen, Secretary | Double bladed knife, silver and gold; Recd—Unknown; Est. Value—$300.00; OSD/WHS/Gift Vault | Saudi Arabia | Non-acceptance would have caused embarrassment to donor and U.S. Government.
T.H. William S. Cohen, Secretary | 2.5″ diameter gold medallion | Unknown | Non-acceptance would have caused embarrassment to donor and U.S. Government.
T.H. William S. Cohen, Secretary | 2.5″ diameter gold medallion | Unknown | Non-acceptance would have caused embarrassment to donor and U.S. Government.
T.H. William S. Cohen, Secretary | Crystal Set (gun, mallet, and dagger); Recd—In 1997; Est. Value—$360.00; OSD/WHS/Gift Unit | Unknown | Non-acceptance would have caused embarrassment to donor and U.S. Government.
T.H. William S. Cohen, Secretary | Porcelain and silver seven piece tea set with 12.5″ tea pot with leather handle and six cups; Recd—November 20, 2000; Est. Value—$380.00; OSD/WHS/Gift Vault | Amir of Kuwait, Jaber Al-Ahmed Al Sabah | Non-acceptance would have caused embarrassment to donor and U.S. Government.
T.H. William S. Cohen, Secretary | Round wood plaque w/brass relief of the Islands of Bahrain w/pearls representing cities; Recd—November 16, 2000; Est. Value—$830.00; OSD/WHS/Gift Vault | Crown Prince H.H. Shaikh Salman bin Hammad Al Khalifa and Prime Minister H.H. Shaikh Khalifa bin Salman Al Khalifa | Non-acceptance would have caused embarrassment to donor and U.S. Government.
T.H. William S. Cohen, Secretary | Two 7.5″ gold bracelets; Recd—November 21, 2000; Est. Value—$475.00 and $465.00; OSD/WHS/Gift Vault | Field Marshall Hussein Tantawy, CINC, Minister of Defense and Military Production | Non-acceptance would have caused embarrassment to donor and U.S. Government.
T.H. William S. Cohen, Secretary | Saudi automatic weapon in brown case w/two clips, green shoulder strap, and one box of ammo; Recd—November 20, 2000; Est. Value—$700.00; OSD/WHS/Gift Vault | Sultan, bin Abd al-Aziz Al Saud, Minister of Defense | Non-acceptance would have caused embarrassment to donor and U.S. Government.
T.H. William S. Cohen, Secretary | Gold and Jeweled Earrings; Recd—March 13, 2000; Est. Value—$1875.00; OSD/WHS/Gift Vault | Mohamed VI, Kingdom of Morocco | Non-acceptance would have caused embarrassment to donor and U.S. Government.
T.H. William S. Cohen, Secretary | Gold Sword, approx. 35″ long; Recd—Unknown; Est. Value—$300.00; OSD/WHS/Gift Vault | Colonel General Abiyev Safar Ahundbala, Oglu, Minister of Defense of the Azerbaijan Republic | Non-acceptance would have caused embarrassment to donor and U.S. Government.
T.H. William S. Cohen, Secretary | Identical gold and silver coins w/one side engraved on each side; Recd—November 20, 2000; Est. Value—$380.00; OSD/WHS/Gift Vault | QABOOS, bin Said Al Said, Sultan of Oman | Non-acceptance would have caused embarrassment to donor and U.S. Government.
T.H. William S. Cohen, Secretary | Gold cufflinks, tie tack, and key chain with Bill written in hiroglyphics; Recd—November 21, 2000; Est. Value—$650.00; OSD/WHS/Gift Vault | Field Marshall Hussein Tantawy, CINC, Minister of Defense and Military Production | Non-acceptance would have caused embarrassment to donor and U.S. Government.
T.H. William S. Cohen, Secretary | 2.5″ diameter gold medallion; Recd—Unknown; Est. Value—$1875.00; Reported to GSA, December 18, 2000; pending transfer to GSA | Unknown | Non-acceptance would have caused embarrassment to donor and U.S. Government.
T.H. William S. Cohen, Secretary | Large display plate (pottery) w/stand; Recd—September 12, 2000; Est. Value—$300.00; OSD/WHS/Gift Vault | The Honorable Kazuo Torashima, Director General, Japanese Defense Agency | Non-acceptance would have caused embarrassment to donor and U.S. Government.
T.H. William S. Cohen, Secretary | Twelve piece set of medallions s/designs; Recd—Unknown; Est. Value—$2800.00; Approved for Official Display | Unknown | Non-acceptance would have caused embarrassment to donor and U.S. Government.
T.H. William S. Cohen, Secretary | .75″ diameter gold coin; Recd—Unknown; Est. Value—$325.00; Approved for official display | Unknown | Non-acceptance would have caused embarrassment to donor and U.S. Government.
T.H. William S. Cohen, Secretary | Gold coin 1\2/3\″ × ⅛″ w/eagle wearing a crown; dated 1493-1993 Recd—Unknown; Est. Value—$1140.00; Approved of official display | Unknown | Non-acceptance would have caused embarrassment to donor and U.S. Government.
T.H. William S. Cohen, Secretary | 52″ × 45″ brown wood frame with picture formed from miniature, square marble tiles, picture is of Greek God Neptune; Recd—Unknown; Est. Value—$1600.00; OSD/WHS/Gift Vault | Unknown | Non-acceptance would have caused embarrassment to donor and U.S. Government.
T.H. William S. Cohen, Secretary | Orpheus Music Box in cherry wood box; Recd—September 15, 2000; Est. Value—$450.00; OSD/WHS/Gift Vault | His Excellency Kazuo Torashima, Director General, Defense, Defense Agency, Japan | Non-acceptance would have caused embarrassment to donor and U.S. Government.
T.H. William S. Cohen, Secretary | Large Tiger Eye Box; Recd—September 15, 2000; Est. Value—$330.00; OSD/WHS/Gift Vault | President Josheph Estrada, President of the Republic of the Philippines; Recd—September 15, 2000; Est. Value—$330.00; OSD/WHS/Gift Vault | Non-acceptance would have caused embarrassment to donor and U.S. Government.
T.H. William S. Cohen, Secretary | Large double matted and framed depiction of Southern Europe; Recd—October 8, 2000; Est. Value—$465.00; OSD/WHS/Gift Vault | The Southeastern EURO Defense Ministerial (5th SEDM) | Non-acceptance would have caused embarrassment to donor and U.S. Government.
T.H. William S. Cohen, Secretary | Two silver tea pots, 9″ tall with handles w/6/5″ tall sugar container and 4/75″ tall creamer; Recd—Unknown; Est. Value—$270.00; OSD/WHS/Gift Vault | Field Marshall Hussein Tantawy, Minister of Defense of the Arab Republic of Egypt | Non-acceptance would have caused embarrassment to donor and U.S. Government.
T.H. William S. Cohen, Secretary | 2.5″ diameter gold medallion; Recd—Unknown; Est. Value—$1875.00; Reported to GSA, December 18, 2000; pending transfer to GSA | Unknown | Non-acceptance would have caused embarrassment to donor and U.S. Government.
T.H. William S. Cohen, Secretary | A 9′ × 14′ rug; Recd—October 7, 2000; Est. Value—$730.00; OSD/WHS/Gift Vault | His Excellency Mohamed Jegham, Minister of Defense, Republic of Tunisia | Non-acceptance would have caused embarrassment to donor and U.S. Government.
T.H. William S. Cohen, Secretary | 2.5″ diameter gold medallion; Recd—Unknown; Est. Value—$1875.00; Reported to GSA, December 18, 2000; pending transfer to GSA | Unknown | Non-acceptance would have caused embarrassment to donor and U.S. Government.
T.H. William S. Cohen, Secretary | 2.5″ diameter gold medallion; Recd-Unknown; Est. value-$1875.00; Reported to GSA, December 18, 2000; pending transfer to GSA | Unknown | Non-acceptance would have caused embarrassment to donor and U.S. Government.
T.H. William S. Cohen, Secretary | 2.5″ diameter gold medallion; Recd-Unknown; Est. value-$1875.00; Reported to GSA, December 18, 2000; pending transfer to GSA | Unknown | Non-acceptance would have caused embarrassment to donor and U.S. Government.
T.H. William S. Cohen, Secretary | 2.5″ diameter gold medallion; Recd-Unknown; Est. value-$1875.00; Reported to GSA, December 18, 2000; pending transfer to GSA | Unknown | Non-acceptance would have caused embarrassment to donor and U.S. Government.
T.H. William S. Cohen, Secretary | 37″ × 1.5″ swprd w/silver blade and Arabic Design; Recd-Unknown; Est. Value-$270.00; OSD/WHS/Gift Vault | Unknown | Non-acceptance would have caused embarrassment to donor and U.S. Government.
T.H. William S. Cohen, Secretary | Box containing 10 cans of caviar, two bottles of brandy, two bottles of champagne and two bottles of wine; Recd-Unknown; Est. Value-$390.00; OSD/WHS/Gift Vault | Heydar Allyev, President of the Republic of Azerbaijan | Non-acceptance would have caused embarrassment to donor and U.S. Government.
T.H. William S. Cohen, Secretary | Gold Scarab Bracelet; Recd-April 3, 2000; Est. Value-$900.00; OSD/WHS/Gift Vault | Field Marshall Hussein Tantawy, Minister of Defense of Egypt | Non-acceptance would have caused embarrassment to donor and U.S. Government.
T.H. William S. Cohen, Secretary | Set of four gold items, pitcher w/lid fragrance holder, serving tray and incense burner; Recd-Unknown; Est. Value-$650.00; OSD/WHS/Gift Vault | Shaikh Jassem Bin Hamad, Qatar | Non-acceptance would have caused embarrassment to donor and U.S. Government.
T.H. William S. Cohen, Secretary | Black Pierre Cardin brief case, one silver Bvlgar watch, four containers of fragrance shaped of wooden chests, one black dishdask-long shirt, one traditional Arab headdress, one robe w/gold trim; Recd-November 20, 2000; Est. Value-$1970.00; OSD/WHS/Gift Vault | Deputy Prime Minister and Minister of Defense, Salem S. Al-Sabah | Non-acceptance would have caused embarrassment to donor and U.S. Government.
T.H. William S. Cohen, Secretary | 2.5″ Diameter gold medallion; Recd-Unknown; Est. Value-$1875.00; Reported to GSA, December 18, 2000; pending transfer to GSA | Unknown | Non-acceptance would have caused embarrassment to donor and U.S. Government.
T.H. William S. Cohen, Secretary | Black automatic assault rifle 19″ long; Recd-Unknown; Est. Value-$375.00; OSD/WHS/Gift Vault | Unknown | Non-acceptance would have caused embarrassment to donor and U.S. Government.
T.H. William S. Cohen, Secretary | Bronze and copper statuette of an eagle or Falcon, head covered with gold mask; Recd-Unknown; Est. Value-$750.00; OSD/WHS/Gift Vault | Unknown | Non-acceptance would have caused embarrassment to donor and U.S. Government.
T.H. William S. Cohen, Secretary | Twelve silver chalices and one silver bowl; Recd-November 21, 2000; Est. Value-$840.00; OSD/WHS/Gift Vault | Field Marshall Hussein Tantawy, CINC, Minister of Defense and Military Production | Non-acceptance would have caused embarrassment to donor and U.S. Government.
T.H. William S. Cohen, Secretary | 16.25″ long dagger (9.25″ blade); Recd-Unknown; Est. Value-$290.00; OSD/WHS/Gift Vault | Unknown | Non-acceptance would have caused embarrassment to donor and U.S. Government.
T.H. William S. Cohen, Secretary | Plaque of copper engraving of Mary holding Jesus; Recd-Unknown; Est. Value-$360.00; OSD/WHS/Gift Vault | Lieutenant General D. Tevzadze, Minister of Defense, Georgia (Russia) | Non-acceptance would have caused embarrassment to donor and U.S. Government.
T.H. William S. Cohen, Secretary | Oil on canvas painting “Oil Rocks” by Mir Ismayil Jafarov, 1998; Recd-April 1999; Est. Value-$325.00; OSD/WHS/Gift Vault | President of the Republic of Azerbaijan, Heydar Aliyev | Non-acceptance would have caused embarrassment to donor and U.S. Government.
T.H. William S. Cohen, Secretary | 46″ long rifle w/13″ scope brown leather straps attached in brown leather case; Recd-February 1999; Est. Value-$290.00; Reported to GSA for purchase | Joe Modise, Minister of Defense of the R.S.A | Non-acceptance would have caused embarrassment to donor and U.S. Government.
T.H. William S. Cohen, Secretary | 24″ × 25″ White Silver Horse w/red slash; Recd-Unknown; Est. Value-$1100.00; OSD/WHS/Gift Vault | Zayed Bin Sultan Al Nahayan, President of the United Arab Emirates | Non-acceptance would have caused embarrassment to donor and U.S. Government.
T.H. William S. Cohen, Secretary | Aqua vase w/blue, brown, and beige colors; Recd-Unknown; Est. Value-$360.00; OSD/WHS/Gift Vault | Unknown | Non-acceptance would have caused embarrassment to donor and U.S. Government.
T.H. William S. Cohen, Secretary | 24″ × 53″ ceramic vase, green designs; Recd—Unknown; Est. Value—$300.00; OSD/WHS/Gift Vault | Unknown | Non-acceptance would have caused embarrassment to donor and U.S. Government.
T.H. William S. Cohen, Secretary | White Simpson motorcycle helmet; Recd—Unknown; Est. Value—$300.00; OSD/WHS/Gift Vault | Unknown | Non-acceptance would have caused embarrassment to donor and U.S. Government.
T.H. William S. Cohen, Secretary | Two statuettes, 15 h warrior and 13.5″ female from tribe; Recd—Unknown; Est. Value—$450.00; OSD/WHS/Gift Vault | Minister of Defense, Nigeria | Non-acceptance would have caused embarrassment to donor and U.S. Government.
T.H. William S. Cohen, Secretary | 16.25″ diameter gold and silver platter; Recd—Unknown; Est. Value—$850.00; OSD/WHS/Gift Vault | Unknown | Non-acceptance would have caused embarrassment to donor and U.S. Government.
T.H. William S. Cohen, Secretary | Three different decorated dress costumes in black and red silk and valvet; Recd—Unknown; Est. Value—$390.00; OSD/WHS/Gift Value | Unknown | Non-acceptance would have caused embarrassment to donor and U.S. Government.
T.H. William S. Cohen, Secretary | Twenty two piece gold and silver tea set; Recd—Unknown; Est. Value—$390.00; OSD/WHS/Gift Vault | Heydar Aliyev, President of the Republic of Azerbaijan | Non-acceptance would have caused embarrassment to donor and U.S. Government.
T.H. William S. Cohen, Secretary | 40″ Automatic Rifle; Recd—Unknown; Est. Value—$490.00; OSD/WHS/Gift Vault | Kingdom of Saudi Arabia | Non-acceptance would have caused embarrassment to donor and U.S. Government.
T.H. William S. Cohen, Secretary | 5′×4′ silk rug w/scene of the Last Super; Recd—Unknown; Est. Value—$3200.00; OSD/WHS/Gift Vault | Unkown | Non-acceptance would have caused embarrassment to donor and U.S. Government.
T.H. William S. Cohen, Secretary | 11″×5.5″ wood container covered with a brown marble; Recd—Unknown; Est. Value—$440.00; OSD/WHS/Gift Vault | Joseph Ejercito Estrada, President of the Republic of the Philippines | Non-acceptance would have caused embarrassment to donor and U.S. Government.
T.H. William S. Cohen, Secretary | 35″×48″ portrait of Sec. Cohen in a suit wearing a foreign sash, painted by Abdulla Almuharraqi, Bahrain; Recd—Unknown; Est. Value—$400.00; OSD/WHS/Gift Vault | Unknown | Non-acceptance would have caused embarrassment to donor and U.S. Government.
T.H. William S. Cohen, Secretary | 37″ sword w/stainless steel curved blade; Recd—November 15, 1999; Est. Value—$450.00; OSD/WHS/Gift Vault | Minister of Defense, Buenos Aires | Non-acceptance would have caused embarrassment to donor and U.S. Government.
T.H. William S. Cohen, Secretary | A red, white and blue nylon parachute in a 18″x13′ black canvas carrying bag; Recd—Unknown; Est. Value—$500.00; OSD/WHS/Gift Vault | Unknown | Non-acceptance would have caused embarrassment to donor and U.S. Government.
Lester B. Hazan ABAC, Hostage Rescue Team | Swarovski Optik SLC 10x20 Binoculars; Recd—August 4, 2000; Est. Value—$899.00; HRT Space | Christopher Ulmer, Deputy Head of the Federal Minister's Office, Austrian Ministry of the Interior | Non-acceptance would have caused embarrassment to donor and U.S. Government.
Mrs Louis J. Freeh, wife of Director | Scarf, robe and rug; Recd—April 8, 2000; Est. Value—$35.00; On display in director's office | Col. Gen. Vladimir Borisovich Rushialo, Minister of Internal Affairs, Moscow, Russia | Non-acceptance would have caused embarrassment to donor and U.S. Government.
T.H. Louis J. Freeh, Director | Seven books from First Russian Technical University; Recd—September 15, 2000; Est. Value—$50.00; On display in director's office | Col. Gen. Vladimir Borisovich Rushialo, Minister of Internal Affairs, Moscow, Russia | Non-acceptance would have caused embarrassment to donor and U.S. Government.
T.H. Louis J. Freeh, Director | Red photo album; Recd—September 14, 2000; Est. Value—$5.00; On display in director's office | Col. Gen. Vladimir Borisovich Rushialo, Minister of Internal Affairs, Moscow, Russia | Non-acceptance would have caused embarrassment to donor and U.S. Government.
T.H. Louis J. Freeh, Director | Hand held monocular in case; Recd—September 15, 2000; Est. Value—$20.00; On display in director's office | Col. Gen. Vladimir Borisovich Rushialo, Minister of Internal Affairs, Moscow, Russia | Non-acceptance would have caused embarrassment to donor and U.S. Government.
T.H. Louis J. Freeh, Director | Photo in green frame; Recd—September 15, 2000; Est. Value—$1.00; On display in director's office | Col. Gen. Vladimir Borisovich Rushialo, Minister of Internal Affairs, Moscow, Russia | Non-acceptance would have caused embarrassment to donor and U.S. Government.
T.H. Louis J. Freeh, Director | Book—“St. Petersburg”; Recd—September 15, 2000; Est. Value—$3.00; On display in director's office | Col. Gen. Vladimir Borisovich Rushialo, Minister of Internal Affairs, Moscow, Russia | Non-acceptance would have caused embarrassment to donor and U.S. Government.
T.H. Louis J. Freeh, Director | City Guide Book; Recd—September 15, 2000; Est. Value—$10.00; On display in director's office | Col. Gen. Vladimir Borisovich Rushialo, Minister of Internal Affairs, Moscow, Russia | Non-acceptance would have caused embarrassment to donor and U.S. Government.
T.H. Louis J. Freeh, Director | Book—“Yeyshcknn”; Recd—September 14, 2000; Est. Value—$5.00; On display in director's office | Col. Gen. Vladimir Borisovich Rushialo, Minister of Internal Affairs, Moscow, Russia | Non-acceptance would have caused embarrassment to donor and U.S. Government.
T.H. Louis J. Freeh, Director | Small photograph Album; Recd—September 14, 2000; Est. Value—$10.00; On display in director's office | Col. Gen. Vladimir Borisovich Rushialo, Minister of Internal Affairs, Moscow, Russia | Non-acceptance would have caused embarrassment to donor and U.S. Government.
T.H. Louis J. Freeh, Director | Plaque w/customs crest; Recd—September 14, 2000; Est. Value—$50.00; On display in director's office | Col. Gen. Vladimir Borisovich Rushialo, Minister of Internal Affairs, Moscow, Russia | Non-acceptance would have caused embarrassment to donor and U.S. Government.
T.H. Louis J. Freeh, Director | Honorary degree from First Russian Technical University; Recd—September 15, 2000; Est. Value—$2.00; On display in director's office | Col. Gen. Vladimir Borisovich Rushialo, Minister of Internal Affairs, Moscow, Russia | Non-acceptance would have caused embarrassment to donor and U.S. Government.
T.H. Louis J. Freeh, Director | PK3901 Automatic Hand Gun in wooden case; Recd—September 15, 2000; Est. Value—$200.00; On display in director's office | Col. Gen. Vladimir Borisovich Rushialo, Minister of Internal Affairs, Moscow, Russia | Non-acceptance would have caused embarrassment to donor and U.S. Government.
T.H. Louis J. Freeh, Director | 10 Boxes of Ammo (160 rounds total); Recd—September 15, 2000; Est. Value—$5.00; On display in director's office | Col. Gen. Vladimir Borisovich Rushialo, Minister of Internal Affairs, Moscow, Russia | Non-acceptance would have caused embarrassment to donor and U.S. Government.
T.H. Louis J. Freeh, Director | Red velvet holder & banner w/wooden handle; Recd—April 8, 2000; Est. Value—$35.00; On display in director's office | Minister Zokirjon Almatov, Ministry of Internal Affairs, Tashkent, Uzbekistan | Non-acceptance would have caused embarrassment to donor and U.S. Government.
T.H. Louis J. Freeh, Director | Book—“St. Petersburg”; Recd—September 15, 2000; Est. Value—$10.00; On display in director's office | Col. Gen. Vladimir Borisovich Rushialo, Minister of Internal Affairs, Moscow, Russia | Non-acceptance would have caused embarrassment to donor and U.S. Government.
T.H. Louis J. Freeh, Director | Saber in wooden case; Recd—September 15, 2000; Est. Value—$100.00; On display in director's office | Col. Gen. Vladimir Borisovich Rushialo, Minister of Internal Affairs, Moscow, Russia | Non-acceptance would have caused embarrassment to donor and U.S. Government.
T.H. Louis J. Freeh, Director | Two frames (small & large); Recd—April 8, 2000; Est. Value—$30,00; On display in director's office | Minister Zokirjon Almatov, Ministry of Internal Affairs, Tashkent, Uzbekistan | Non-acceptance would have caused embarrassment to donor and U.S. Government.
T.H. Louis J. Freeh, Director | Hat (folded); Recd—April 8, 2000; Est. Value—$2.00; On display in director's office | Minister Zokirjon Almatov, Ministry of Internal Affairs, Tashkent, Uzbekistan | Non-acceptance would have caused embarrassment to donor and U.S. Government.
T.H. Louis J. Freeh, Director | Blue & White Ceramic Chess Set; Recd—September 14, 2000; Est. Value—$100.00; On display in director's office | Minister Zokirjon Almatov, Ministry of Internal Affairs, Tashkent, Uzbekistan | Non-acceptance would have caused embarrassment to donor and U.S. Government.
T.H. Louis J. Freeh, Director | Red cloth w/gold braiding; Recd—April 8, 2000; Est. Value—$10.00; On display in director's office | Minister Zokirjon Almatov, Ministry of Internal Affairs, Tashkent, Uzbekistan | Non-acceptance would have caused embarrassment to donor and U.S. Government.
T.H. Louis J. Freeh, Director | Dagger in gold & velvet sheath; Recd—April 8, 2000; Est. Value—$75.00; On display in director's office | Minister Zokirjon Almatov, Ministry of Internal Affairs, Tashkent, Uzbekistan | Non-acceptance would have caused embarrassment to donor and U.S. Government.
T.H. Louis J. Freeh, Director | Blue ceremonial robe w/gold braiding; Recd—April 8, 2000; Est. Value—$100.00; On display in director's office | Minister Zokirjon Almatov, Ministry of Internal Affairs, Tashkent, Uzbekistan | Non-acceptance would have caused embarrassment to donor and U.S. Government.
T.H. Louis J. Freeh, Director | Sword & Dagger in case; Recd—April 6, 2000; Est. Value—$300.00; On display in director's office | Minister Zokirjon Almatov, Ministry of Internal Affairs, Tashkent, Uzbekistan | Non-acceptance would have caused embarrassment to donor and U.S. Government.
CAPT Andrew J. Dutka, National Naval Medical Center, Bethesda | Gold coin set; Recd—December 8, 1999; Est. Value—$700.00; Being retained at CNO (NO9B13) | Crown Prince of Kuwait | Non-acceptance would have caused embarrassment to donor and U.S. Government.
CAPT R. L. Morrissey, National Naval Medical Center, Bethesda | Gold coin set; Recd—December 8, 1999; Est. Value—$700.00; Being retained at CNO (NO9B13) | Crown Prince of Kuwait | Non-acceptance would have caused embarrassment to donor and U.S. Government.
CDR Almond J. Drake, National Naval Medical Center, Bethesda | Gold coin set; Recd—December 8, 1999; Est. Value—$700.00; Being retained at CNO (NO9B13) | Crown Prince of Kuwait | Non-acceptance would have caused embarrassment to donor and U.S. Government.
CDR David P. Adkinson, National Naval Medical Center, Bethesda | Gold coin set; Recd—December 8, 1999; Est. Value—$700.00; Being retained at CNO (NO9B13) | Crown Prince of Kuwait | Non-acceptance would have caused embarrassment to donor and U.S. Government.
CDR Frank E. Klink, National Naval Medical Center, Bethesda | Gold coin set; Recd—December 8, 1999; Est. Value—$700.00; Being retained at CNO (NO9B13) | Crown Prince of Kuwait | Non-acceptance would have caused embarrassment to donor and U.S. Government.
CDR Murray S. Donovan, National Naval Medical Center, Bethesda | Gold coin set; Recd—December 8, 1999; Est. Value—$700.00; Being retained at CNO (NO9B13) | Crown Prince of Kuwait | Non-acceptance would have caused embarrassment to donor and U.S. Government.
Col. Michael Boyce, OFC of Military Cooperations, Oman | Radio Wrist Watch; Recd—September 25, 2000; Est. Value—$332.00; Report to GSA | Commander Royal Army of Oman | Non-acceptance would have caused embarrassment to donor and U.S. Government.
Gen Zinni, Commander in Chief, U.S. Central Command | H&K 9MM pistol (gold); Recd—June 17, 2000; Est. Value—$1500.00; Reported to GSA | Saudi Arabia | Non-acceptance would have caused embarrassment to donor and U.S. Government.
Gen Zinni, Commander in Chief, U.S. Central Command | Longine watches; Recd—June 17, 2000; Est, Value—$Unknown; Reported to GSA | Manama, Bahrain | Non-acceptance would have caused embarrassment to donor and U.S. Government.
Gen Zinni, Commander in Chief, U.S. Central Command | Pakistani bokara carpet; Recd—May 2000; Est. Value—$300.00; Reported to GSA | Pakistan | Non-acceptance would have caused embarrassment to donor and U.S. Government.
Gen Zinni, Commander in Chief, U.S. Central Command | Turkman; Recd—June 22, 2000; Est. Value—$375.00; Report to GSA | Turkmenistan | Non-acceptance would have caused embarrassment to donor and U.S. Government.
Gen Zinni, Commander in Chief, U.S. Central Command | Sword; Recd—May 11, 2000; Est. Value—$1369.00; Reported to GSA | Quatar | Non-acceptance would have caused embarrassment to donor and U.S. Government.
Gen Zinni, Commander in Chief, U.S. Central Command | Breitling watch; Recd—May 2000; Est. Value—$2500.00; Reported to GSA | Kuwait | Non-acceptance would have caused embarrassment to donor and U.S. Government.
Gen Zinni, Commander in Chief, U.S. Central Command | Table with 2 chairs; Recd—April 21, 2000; Est. Value—$1000.00; Official display | Egypt | Non-acceptance would have caused embarrassment to donor and U.S. Government.
Gen Zinni, Commander in Chief, U.S. Central Command | Indian Carpet; Recd—June 17, 2000; Est. Value—$1100.00; Reported to GSA | Bahrain Defense Force | Non-acceptance would have caused embarrassment to donor and U.S. Government.
LCDR Walter M. Downs, National Naval Medical Center, Bethesda | Gold coin set; Recd—December 8, 1999; Est. Value—$700.00; Being retained at CNO (NO9B13) | Crown Prince of Kuwait | Non-acceptance would have caused embarrassment to donor and U.S. Government.
Lt. John J. Murray, National Naval Medical Center, Bethesda | Man's watch; Recd—December 8, 1999; Est. Value—$1300.00; Being retained at CNO (NO9B13) | Crown Prince of Kuwait | Non-acceptance would have caused embarrassment to donor and U.S. Government.
Mrs. Fulford, Spouse of General Fulfor, Deputy USEUCOM | Ladies bracelet; Recd—Unknown; Est. Value—$Unknown; Report to GSA | Wife of the Deputy Chief of Defense, Greece | Non-acceptance would have caused embarrassment to donor and U.S. Government.
Ms. S.E. Morseman, National Naval Medical Center, Bethesda | Gold Bracelet; Recd—December 8, 1999; Est. Value—$700.00; Being retained at CNO (NO9B13) | Crown Prince of Kuwait | Non-acceptance would have caused embarrassment to donor and U.S. Government.
Richard Danzig, Secretary of the Navy | Chinese art work; Recd—April 2000; Est. Value—$2000.00; Being retained at CNO (NO9B13) | People's Liberation Navy, China | Non-acceptance would have caused embarrassment to donor and U.S. Government.
VADM Daniel J. Murphy, Jr., Commander, SIXTH Fleet | Portrait and statue; Recd—September 29, 1999; Est. Value—$1000.00; Official display SIXTH Fleet | CDR, 2nd Military Region, Oran | Non-acceptance would have caused embarrassment to donor and U.S. Government.
Securities and Exchange Commission
Ester Saverson, Assistant Director, Office of International Affairs | Mont Blanc Rollerball Pen; Recd—June 8, 2000; Est. Value—$350.00; Tendered to Agency Ethics Office—June 2000 | Shaik Ahmed Bin Mohammed Al-Khalifa, Director of Bahrain Stock Exchange | Non-acceptance would have caused embarrassment to donor and U.S. Government.
Robert Strahota, Assistant Director, Office of International Affairs | Mont Blanc Rollerball Pen & 1983 Bahrain; Commemorative Silver Coin Proof Set; Recd—June 8, 2000; Est. Value—$400.00; Tendered to Agency Ethics Office—June 2000 | Shaik Ahmed Bin Mohammed Al-Khalifa, Director of Bahrain Stock Exchange | Non-acceptance would have caused embarrassment to donor and U.S. Government.
Thomas Murphy, Assistant Regional Director (Midwest Regional Office) | Mont Blanc Rollerball Pen; Recd—June 8, 2000; Est. Value—$350.00; Tendered to Agency Ethics Office—July 12, 2000 | Shaik Ahmed Bin Mohammed Al-Khalifa, Director of Bahrain Stock Exchange | Non-acceptance would have caused embarrassment to donor and U.S. Government.
State
Ambassador Garza | A Roger Perez de la Rocha Painting; Recd—December 1999; Est. Value—$3000.00; Approved for Official Display | President Arnold Aleman, President of Nicaragua | Non-acceptance would have caused embarrassment to donor and U.S. Government.
Ambassador Kattouf | Tissot watch, titanium case, sapphire crystal; Recd—October 26, 1999; Est. Value—$460.00; Turned in to GSA | UAE Businessman Salim Al-Mossa | Non-acceptance would have caused embarrassment to donor and U.S. Government.
Edward S. Walker, Jr.—Assistant Secretary for Near East Affairs | Loneines Watch; Recd—June 9, 2000; Est. Value—$750.00; Turned in to GSA | King Abdullah Jordan | Non-acceptance would have caused embarrassment to donor and U.S. Government.
Elaine Shocas—Chief of Staff | Gem Stone pin; Recd—September 18, 2000; Est. Value—$260.00; Turned in to GSA | Prime Minister Vajpaye, India | Non-acceptance would have caused embarrassment to donor and U.S. Government.
John B. Craig, Ambassador | A Cartier Pen; Recd—April 3, 2000; Est. Value—$2000.00; Approved for Official Display | The Sultan of Oman | Non-acceptance would have caused embarrassment to donor and U.S. Government.
Katherine Van de Vate—Public Affairs Officer Abu Dhabi, U.A.E | Men's Seiko quartze watch and women's Guess Collection silver watch; Recd—November 29, 2000; Est. Value—$325.00; Turned in to GSA | Department of Islamic Affairs, Abu Dhabi, UAE | Non-acceptance would have caused embarrassment to donor and U.S. Government.
Malcolm R. Lee—Deputy Assistant Secretary for East Asian Affairs | Palm Vx (personal electronic organizer) with accessories; Recd—December 9, 2000; Est. Value: $389.00; Turned in to GSA | Secretary Yao, Chief, HK Info Technology and Broadcasting Bureau, Hong Kong | Non-acceptance would have caused embarrassment to donor and U.S. Government.
Office of Chinese and Mongolian Affairs | 3 11×14 framed watercolors paintings by artist; Damba Tsolmon, Recd—May 8, 2000; Est. Value—$375.00; Approved for Official Display | Ambassador Jalbuu Choinhor, Mongolia | Non-acceptance would have caused embarrassment to donor and U.S. Government.
RECIPIENT: Madeleine K. Albright; T.H. Madeleine K. Albright, Secretary | Two red rugs; Recd—September, 2000; Est. Value—$260.00+ each; Turned in to GSA | President Aliyev, Azerbaijan | Non-acceptance would have caused embarrassment to donor and U.S. Government.
T.H. Madeleine K. Albright | Medium blue and green rug; Recd—March 25, 2000; Est. Value—$260.00+; Approved for Official Display | General Pervez Musharrag, Chief Executive of the Islamic Republic of Pakistan | Non-acceptance would have caused embarrassment to donor and U.S. Government.
T.H. Madeleine K. Albright | Leather suit case; wood box; velvet robe; Recd—December 2000; Est. Value—$260.00+; Turned in to GSA | President Bonteflika, Algeria | Non-acceptance would have caused embarrassment to donor and U.S. Government.
T.H. Madeleine K. Albright—Secretary of State | Two area rugs; Recd—September 2000; Est. Value—$260.00+; Turned into GSA | President Aliyev, Azerbaijan | Non-acceptance would have caused embarrassment to donor and U.S. Government.
T.H. Madeleine K. Albright, Secretary | Pre-Colombian Artifact replica; Recd—January 15, 2000; Est. Value—$260.00; Turned into GSA | Alfonso Salis General Manager of Port of Cartage | Non-acceptance would have caused embarrassment to door and U.S. Government.
T.H. Madeleine K. Albright, Secretary | Gold/Stone necklace; Recd—October 22, 1999; Est. Value—$400.00; Turned in to GSA | Chairman Arafat PLO | Non-acceptance would have caused embarrassment to donor and U.S. Government.
T.H. Madeleine K. Albright, Secretary | Gold bracelet and necklace; Recd—December 8, 1999; Est. Value—$1000.00; Turned in to GSA | Chairman Arafat PLO | Nonacceptance would have caused embarrassment to donor and U.S. Government.
T.H. Madeleine K. Albright, Secretary | Gold bracelet and necklace; Recd—January 30, 2000; Est. Value—$3000.00; Turned in to GSA | Chairman Arafat Palestinian Authority | Nonacceptance would have caused embarrassment to donor and U.S. Government.
T.H. Madeleine K. Albright, Secretary | 2-tone gold metal bracelet and necklace; Recd—June 6, 2000; Est. Value—$3000.00; Turned in to GSA | Chairman Arafat Palestinian Authority | Nonacceptance would have caused embarrassment to donor and U.S. Government.
T.H. Madeleine K. Albright, Secretary | Gold metal necklace, bracelet, earrings and ring; Recd—June 15, 2000; Est. Value—$8400.00; Turned in to GSA | Chairman Arafat Palestinian Authority | Nonacceptance would have caused embarrassment to donor and U.S. Government.
T.H. Madeleine K. Albright, Secretary | Gold and Gem necklace; Recd—January 20, 2000; Est. Value—$3000.00; Turned in to GSA | Chairman Arafat Palestinian Authority | Nonacceptance would have caused embarrassment to donor and U.S. Government.
T.H. Madeleine K. Albright, Secretary | Necklace, earrings, rings, and bracelet; Recd—September 15, 2000; Est. Value—$91000.00; Turned in to GSA | Crown Prince Abdullah, Saudi Arabia | Non-acceptance would have caused embarrassment to donor and U.S. Government.
T.H. Madeleine K. Albright, Secretary | Silver box—6′ round w/lid; Recd—May 26, 1999; Est. Value—$600.00; Turned in to GSA | FM Lamberto Dini, Italy | Non-acceptance would have caused embarrassment to donor and U.S. Government.
T.H. Madeleine K. Albright, Secretary | Silver Earrings; Recd—May 8, 2000; Est. Value—$550.00; Turned in to GSA | FM Papandreou, Greece | Non-acceptance would have caused embarrassment to donor and U.S. Government.
T.H. Madeleine K. Albright, Secretary | Wool and silk rug; Recd—March 25, 2000; Est. Value—$900.00; Turned in to GSA | General Musharef, Pakistan | Office of Protocol for disposition.
T.H. Madeleine K. Albright, Secretary | Traditional Musical Instrument; Recd—June 2000; Est. Value—$300.00; Turned in to GSA | Governor Keiichi Inamine, Japan | Non-acceptance would have caused embarrassment to donor and U.S. Government.
T.H. Madeleine K. Albright, Secretary | 2′ 22kt. Gold brooch in the shape of a “Bunga Simpor” flower, set with diamonds and burgundy coral beads; Recd—November 15, 2000; Est. Value—$2000.00 each; Turned in to GSA | H.R.H. Pengiran Isteri Hajjah Mariam binti Haji Abdul Aziz, Second wife of Sultan of Brunei | Non-acceptance would have caused embarrassment to donor and U.S. Government.
T.H. Madeleine K. Albright, Secretary | Large Carpet; Recd—June 20, 2000; Est. Value—$260.00; Turned in to GSA | King Mohammed V, Morocoo | Non-acceptance would have caused embarrassment to donor and U.S. Government.
T.H. Madeleine K. Albright, Secretary | Large Silk Rug; Recd—Unknown; Est. Value—$4000.00; Turned in to GSA | King of Morocco | Non-acceptance would have caused embarrassment to donor and U.S. Government.
T.H. Madeleine K. Albright, Secretary | Small silver bowl and two art books; Recd—October 1, 2000; Est. Value—$300.00; Turned in to GSA | Mayor Juppe, Bordeaux, France | Non-acceptance would have cause embarrassment to donor and U.S. Government.
T.H. Madeleine K. Albright, Secretary | Wooden Jewelry box, metal and stone bracelet, necklace; Recd—April 16, 2000; Est. Value—$590.00; Turned in to GSA | President Akaev, Kyrgystan | Non-acceptance would have cause embarrassment to donor and U.S. Government.
T.H. Madeleine K. Albright, Secretary | Silver Flatware set; Recd—September 1, 2000; Est. Value—$1250.00; Turned in to GSA | President Karimov Uzbekistan | Non-acceptance would have caused embarrassment to donor and U.S. Government.
T.H. Madeleine K. Albright, Secretary | Gold Chain; Recd—September 20, 1999; Est. Value $2500.00; Turned in to GSA | Prime Minister Sheikh Hasina Bangladesh | Non-acceptance would have caused embarrassment to donor and U.S. Government.
T.H. Madeleine K. Albright, Secretary | Gem Stone Pin; Recd—September 18, 2000; Est. Value—$600.00; Turned in to GSA | Prime Minister Vajpaye, India | Non-acceptance would have caused embarrassment to donor and U.S. Government.
T.H. Madeleine K. Albright, Secretary | Genta Watch and Book on The Sultan; Recd—November 2000; Est. Value—$500.00; Turned in to GSA | Princess Paduka Seri Baginda Raja Isteri Pengiram, Brunei | Non-acceptance would have caused embarrassment to donor and U.S. Government.
T.H. Madeleine K. Albright, Secretary | Gold bracelet; Recd—January 1, 1998; Est. Value $950.00; Turned in to GSA | Suha Arafat, First Lady PLO | Non-acceptance would have caused embarrassment to donor and U.S. Government.
Treasury
Edwin M. Truman | Facial mask (un masque cuvette); Recd—April 3, 2000; Est. Value—$450.00; To be excessed to GSA | Peter Mufany Musonge, Prime Minister, Republic of Cameroon | Non-acceptance wouldhave cause embarrassment to donor and U.S. Government.
T.H. Lawrence H. Summers, Secretary | Bronze statue; Recd—June 29, 2000; Est. Value—$350.00; To be excessed to GSA | Mr. Obasanjo, President, Government of Nigeria | Non-acceptance would have caused embarrassment to donor and U.S. Government.
T.H. Lawrence H. Summers, Secretary | Hakatari Ori fabric framed in wood; Recd—July 20, 2000; Est. Value—$330.00; Retained by Treasury on July 20, 2000 | Mr. Miyazawa, Minister of Finance, Government of Japan | Non-acceptance would have caused embarrassment to donor and U.S. Government.
T.H. Lawrence H. Summers, Secretary | Wood crafted elephant; Recd—January 19, 2000; Est. Value—$700.00; Retained by Treasury on May 25, 2000 | Yashant Sinha, Minister of Finance, Government of India | Non-acceptance would have caused embarrassment to donor and U.S. Government.
T.H. Lawrence H. Summers, Secretary | Wood crafted statue; Recd—February 9, 2000; Est. Value—$1,400.00; Retained by Treasury on May 25, 2000 | S.M. Krishna, Chief Minister, Government of India | Non-acceptance would have caused embarrassment to donor and U.S. Government.
U.S. Senate
Benjamin C. Noble, Legislative Assistant Senator Lincoln | One box of Habanos Cuban Cigars (box autographed by President Castro; Recd—May 28, 2000; Est. Value—$700.00; Deposited with Secretary of Senate | President Fidel Castro, Cuba | Non-acceptance would have caused embarrassment to donor and U.S. Government.
Blanche Lincoln, U.S. Senator | Two boxes of Habanos Cuban Cigars (boxes autographed by President Castro; Recd—May 28, 2000; Est. Value $700.00 each; Deposited with Secretary of Senate | President Fidel Castro, Cuba | Non-acceptance would have caused embarrassment to donor and U.S. Government.
Christopher Williams, Foreign Policy and Intelligence Advisor to Senator Lott | Black Mont Blanc Classic ballpoint pen; Recd—March 14, 2000; Est. Value—$175.00; Deposited with Secretary of Senate | Remus Chem, Taiwanese government lobbyist | Non-acceptance would have caused embarrassment to donor and U.S. Government.
Chuck Hagel, U.S. Senator | Silver Sword and sheath; Recd—April 3, 2000; Est. Value—$250.00; Display in SR 348 | President of Yemen, His Excellency Ali Abdullah Saleh | Non-acceptance would have caused embarrassment to donor and U.S. Government.
Edward M. Kennedy, U.S. Senator | Ceramic plate with gold design; Recd—March 2, 2000; Est. Value—$150.00; On display in SR315 | King Adbullah and Queen Rania of Jordan | Non-acceptance would have caused embarrassment to donor and U.S. Government.
Gary Sisco, Secretary of the U.S. Senate | Photographs (2) with custom frames, wood with gilding; Recd—November 2000; Est. Value—$500.00; Deposited with Secretary of State | Consul General Francisco Morales, Government of Panama | Non-acceptance would have caused embarrassment to donor and U.S. Government.
Paul S. Sarbanes, U.S. Senator | Waterford crystal bowl with wooden stand; Recd—July 17, 2000; Est. Value—$200.00; Deposited with Secretary of Senate | Aer Lingus, airline owned by the Government of Ireland | Non-acceptance would have caused embarrassment to donor and U.S. Government.
Tom Harkin, U.S. Senator | 5 vol. Set of “The Complete Saga of Icelanders”; Recd—April 27, 2000; Est. Value—$500.00; Deposited with Secretary of Senate | President Olafur Grimsson of Iceland | Non-acceptance would have caused embarrassment to donor and U.S. Government.
White House
Gayle E. Smith, Director for African Affairs, NSC | Three 29″ diameter leather pillow covers; 100″ leather embroidered rug; silver woven Sari with matching silver top; two 29″ × 84″ purple with gold cloths; Recd—November 4, 1999; Est. Value—$3250.00; Held in Gift Office | T.H. Aliyu Mohammed, Nigerian National Security Advisor | Non-acceptance would have caused embarrassment to donor and U.S. Government.
President Clinton | A painting depicting all 42 American Presidents (1.75 × 2.75m canvas); Recd—March 2000; Est. Value—$260.00+; Approved for Official Display | Enrique Iturriaga Villegas, Private Citizen in Aguascalientes, Mexico | Non-acceptance would have caused embarrassment to donor and U.S. Government.
President Clinton | 11″ × 6.5″ × 2.5″ sterling silver box with a hinged top and a black, green, and mother-of-pearl mosaic title design reminiscent of the Church of the Lions; Recd—Unknown; Est. Value—$500.00; Archives Foreign | Their Majesties King Abdullah II and Queen Rania Al Abdullah, Jordan | Non-acceptance would have caused embarrassment to donor and U.S. Government.
President Clinton | 9.5″ × 4.5″ oval Egyptian silver repousse dome-top footed box with blue velour interior; Recd—Unknown; Est. Value—$1200.00; Archives | H.E. Mohamed Hosny Mubarak, President of the Arab Republic of Egypt | Non-acceptance would have caused embarrassment to donor and U.S. Government.
Vice President Gore and Family | Ceramic vase 10″ high in green landscape with gold area around mouth; wooden lacquer chest; Recd—May 5, 2000; Est. Value—$500.00; Archives | H.E. Yoshiro Mori, Prime Minister of Japan | Non-acceptance would have caused embarrassment to donor and U.S. Government.
Vice President Gore | Landscape painting, 20 × 28; Recd—July 7, 2000; Est. Value—$450.00; Office of the Vice President—Gift cupboard | H.E. Robert Kocharian, President of the Republic of Armenia | Non-acceptance would have caused embarrassment to donor and U.S. Government.
Vice President Gore and Family | 2 silver vases and gold bracelet; Recd—September 15, 2000; Est. Value—$5500.00; Office of the Vice President—Gift Cupboard | H.E. Atal Behari Vahpayee, Prime Minister of India | Non-acceptance would have caused embarrassment to donor and U.S. Government.
Vice President Gore and Family | Ceramic vase 10″ high in green landscape with god around mouth; Recd—May 5, 2000; Est. Value—$500.00; Archives | H.E. Yoshiro Mori, Prime Minister of Japan | Non-acceptance would have caused embarrassment to donor and U.S. Government.
Vice President Gore and Mrs. Gore | Ancient Roman glass artifact (candlesticks); gold pendant with ancient coin (for MEG); Recd—January 6, 2000; Est. Value—$1000.00; Archives | H.E. Ehud Barak and Mrs. Nava Barak, Prime Minister of Israel | Non-acceptance would have caused embarrassment to donor and U.S. Government.
President | 8″ × 5.5″ × 2″ silver box with wood veneer interior. Lid is engraved to read “Jamil Mahuad Witt—Presidente Constitucional de la Republica del Ecuador” and bears a relief of the seal of Ecuador; Recd—February 5, 1999; Est. Value—$500; Archives Foreign | His Excellency Dr. Jamil Mahuad, President of the Republic of Ecuador | Non-acceptance would cause embarrassment to donor and U.S. Government.
President | 71″ × 43″ silk Hereke carpet with an ivory field, bota motif, navy center background, one maroon primary border and five secondary borders, with beige fringe; Recd—November 16, 1999; Est. Value—$3500; Archives Foreign | The Honorable Kemal Onal, Governor of the Province of Izmir, The Republic of Turkey | Non-acceptance would cause embarrassment to donor and U.S. Government.
President | Men's beige Gobi cashmere turtleneck sweater. Recd—January 16, 2000; Est. Value—$175; Archives Foreign | His Excellency Jalbuugiin Choinhor, Ambassador of the Republic of Mongolia | Non-acceptance would cause embarrassment to donor and U.S. Government.
President | (1) 18″ 18 kt. gold choker necklace. Each link resembles a small leaf and there is a hanging pendant in the shape of five four-leaf flowers; with matching 8″ 18 kt. gold bracelet with eight links, each being a four-leaf flower, $2400. (2) 4″ gold-tone star-shaped medal with a 2″ white and blue cloisonne circle in the middle that depicts a gold Nativity with a star and Arabic writing above and reads “Bethelhem 2000” below, attached to a 30″ × 2″ green sateen ribbon, $50. (3) 25″ × 20″ mother-of-pearl and abalone shell shadow box relief that depicts the Last Supper with stairs on either side of the feast table that lead to Jesus, Joseph, and angels, $1500; Recd—January 21, 2000; Est. Value—$3950; Archives Foreign | Mr. Yasser Arafat, Chairman Executive Committee of the Palestine Liberation Organization | Non-acceptance would cause embarrassment to donor and U.S. Government.
President | (1) 1″ diameter gold coin that depicts a bust of the donor on the front and a palace on the back, $125. (2) 5′ long bronze arrowhead circa 63 B.C.—33 C.E., $200; Recd—January 28, 2000; Est. Value—$325; Archives Foreign | His Excellency Rudolf Schuster, The President of the Slovak Republic and Mrs. Schusterova | Non-acceptance would cause embarrassment to donor and U.S. Government.
President | 5″ tall silver statue of a man in robes kneeling and holding a cup in one hand and a pitcher in the other, mounted on a round wooden base; Recd—January 28, 2000; Est. Value—$850; Archives Foreign | His Highness Sheikh Sulman bin Hamad bin Isa Al-Khalifa, Crown Prince of the State of Bahrain and Head of the Bahrain Defense Force | Non-acceptance would cause embarrassment to donor and U.S. Government.
President | 15″ × 22″ mother-of-pearl and abalone shell shadow box Nativity that reads “2000” across the front; Recd—January 29, 2000; Est. Value—$1000; Archives Foreign | Mr. Yasser Arafat, Chairman, Executive Committee of the Palestine Liberation Organization | Non-acceptance would cause embarrassment to donor and U.S. Government.
President | 37″ × 27″ fully rigged model ship of the U.S.S. Constitution, 1797, with sails; Recd—February 4, 2000; Est. Value—$4000; Archives Foreign | The Right Honorable Navinchandra Ramgoolam, Prime Minister of the Republic of Mauritius | Non-acceptance would cause embarrassment to donor and U.S. Government.
President | 36″ gold vermeil sword with lion's head on the hilt. Scabbard is gold vermeil and decorated with blue and green glass beads, black and white enamel work, and interspersed with four ivory ovals. Reverse side of scabbard bears a silver niello motif of animals and flowers. The blade of the sword is inscribed to the President; Recd—February 15, 2000; Est. Value—$800; Archives Foreign | His Excellency Heydar Aliyev, President of the Republic of Azerbaijan | Non-acceptance would cause embarrassment to donor and U.S. Government.
| (1) 20 jars of caviar. (2) Two bottles of cognac; Recd—February 15, 2000; Est. Value—$250; Accepted by Another Government Agency
President | 8″ × 13″ hand-carved ebony sculpture of a rhinoceros on a 16″ base; Recd—February 17, 2000; Est. Value—$650; Archives Foreign | His Excellency Daniel T. arap Moi, President of the Republic of Kenya | Non-acceptance would cause embarrassment to donor and U.S. Government.
President | Medium sized cut and etched and crystal bowl; Recd—March 17, 2000; Est. Value—$1000; Archives Foreign | His Excellency Bertie Ahern, Prime Minister of Ireland | Non-acceptance would cause embarrassment to donor and U.S. Government.
President | 28″ × 40″ oil painting on canvas that depicts a Bangladeshi village, fishing boat, river, trees, and homes in a 35″ × 45″ wooden frame. Recd—March 20, 2000; Est. Value—$500; Archives Foreign | His Excellency Shahabuddin Ahmed, President of the People's Republic of Bangladesh | Non-acceptance would cause embarrassment to donor and U.S. Government.
| Silver tea set with a floral relief that includes: 12″ round silver serving platter, 8.5″ tall teapot, 4.5″ creamer, and 4.5″ sugar bowl. Recd—March 20, 2000; Est. Value—$1500; Archives Foreign
President | (1) Three hardcover books. “Images and Insights,” and “India and America: Essays in Understanding,” written and inscribed by donor, and “Arts and Crafts of Rajasthan,” by Aman Nath and Francis Wacsiarg, $45. (2) Paperback. “Sweet and Sour: Burmese Short Stories,” written and inscribed by Mrs. Narayanan, $15; Recd—March 21, 2000; Est. Value—$60; Archives Foreign | His Excellency Kocheril Raman Narayanan, The President of India and Mrs. Narayanan | Non-acceptance would cause embarrassment to donor and U.S. Government.
| 54″ × 30″ tan, brown, white, and earth-tone oil painting titled “Gandhi: the Spirit of Freedom Forges Ahead.” The painting depicts Gandhi holding a walking stick with a white dove in the background; in a 36″ × 59″ copper-tone frame. Recd—March 21, 2000; Est. Value—$800; Archives Foreign
President | Five hardcover books. “The Maharaja and the Princely States of India,” by Sharada Dwivedi, “India After Independence,” by Bipan Chandra, “Annals and Antiques of Rajasthan,” volumes one and two, by James Tod, “Glimpses of World History,” by Jawaharlal Nehru, and “The Arthashastra,” by L.N. Rangarajan; Recd—March 21, 2000; Est. Value—$115; Archives Foreign | The Honorable Anshuman Singh, Governor of Rajasthan, India | Non-acceptance would cause embarrassment to donor and U.S. Government.
President | Four 10″ × 14″ satellite photographs of the United States, the State of Arkansas, and Little Rock, contained in a 30″ × 61″ black lacquer frame; Recd—March 21, 2000; Est. Value—$500; Archives Foreign | His Excellency Atal Bihari Vajpayee, Prime Minister of the Republic of India | Non-acceptance would cause embarrassment to donor and U.S. Government.
President | 13″ × 11″ decorative “Pankah” fan of woven silver matwork with an 18″ silver handle; Recd—March 22, 2000; Est. Value—$1500; Archives Foreign | Mr. Ashok Gehlot, Chief Minister Government of Rajasthan, India | Non-acceptance would cause embarrassment to donor and U.S. Government.
President | Collection of 11 frog figurines: 2.5″ pale green stone frog, 2″ forest-green stone frog, 2″ green stone frog, 1″ amber stone frog, 1.5″ red and gold stone frog, 1.5″ green transparent stone frog, 1″ yellow/green stone frog, 1″ silver-tone frog, .5″ clear glass frog, .5″ clear glass frog, 1″ clear glass frog; Recd—March 23, 2000; Est. Value—$220, Archives Foreign | Ms. Bina Kak, Minister of State for Tourism, Government of Rajasthan, India | Non-acceptance would cause embarrassment to donor and U.S. Government.
President | 12″ tall × 9″ wide solid jade carved elephant statute titled “Lord Ganesh God of Knowledge.” Elephant is seated in the lotus position and is ornately decorated with gold, red, and green paint and has four outstretched arms and two legs; Recd—March 24, 2000; Est. Value—$850; Archives Foreign | Mr. Vilas Rao Deshmukh; Chief Minister, Government of Maharashtra, India | Non-acceptance would cause embarrassment to donor and U.S. Government.
President | 8″ tall composition castle model with four towers, completely covered with cultured pearls, mounted on a silver base with a small silver chain fence surrounding the castle; Recd—March 24, 2000; Est. Value—$3500; Archives Foreign | The Honorable Nara Chandrababu Naidu, Chief Minister of Andhra Pradesh; India | Non-acceptance would cause embarrassment to donor and U.S. Government.
| Traditional Indian male outfit that includes a long silk cream-colored collarless shirt with a 1″ red and ivory beaded border and a matching pair of pants; Recd—March 24, 2000; Est. Value—$100; Archives Foreign
President | (1) 6.5″ diameter silver plate etched with the seal of Pakistan and a floral pattern, $350. (2) 5″ diameter silver bowl with matching design, $450; Recd—March 24, 2000; Est. Value—$800; Archives Foreign | His Excellency Mohammad Rafiq Tarar, President of the Islamic Republic of Pakistan | Non-acceptance would cause embarrassment to donor and U.S. Government.
President | 29″ ornate silver sword with four agate stones embedded in the scabbard and two in the hilt. Blade measures 16″ long and the hilt is 6″ long; Recd—March 25, 2000; Est. Value—$700; Archives Foreign | His Excellency Mohamed Hosny Mubarak, President of the Arab Republic of Egypt | Non-acceptance would cause embarrassment to donor and U.S. Government.
President | 51″ × 76″ Pakistani silk oriental rug with a rose, green, yellow, cream, and tan floral motif with a rose border, four secondary borders, and cream-colored fringe on both ends; Recd—March 25, 2000; Est. Value—$3500; Archives Foreign | General Pervez Musharraf | Non-acceptance would cause embarrassment to donor and U.S. Government.
President | 62″ × 72″ earth-tone wool tapestry wall hanging that depicts two Egyptians in a marketplace, with white fringe; Recd—March 28, 2000; Est. Value—$2000; Archives Foreign | His Excellency Mohamed Hosny Mubarak, President of the Arab Republic of Egypt | Non-acceptance would cause embarrassment to donor and U.S. Government.
President | Vacheron Constantin Les Complications watch with an 18 kt. gold face and brown leather band; Recd—March 30, 2000; Est. Value—$15000; Archives Foreign | The Honorable Guy-Olivier Segond, President of the Canton of Geneva | Non-acceptance would cause embarrassment to donor and U.S. Government.
President | 12″ long dagger with a ridge down the center of the blade with an ornately carved 21 kt. gold hilt, contained in an all gold embroidered J-shaped scabbard with leather guard, $800. Sword is contained in a 15.5″ × 12.5″ × 5″ light and dark brown wood veneer inlay box that is lined with red satin, $500; Recd—April 3, 2000; Est. Value—$1300; Archives Foreign | His Excellency Ali Abdullah Saleh, President of the Republic of Yemen | Non-acceptance would cause embarrassment to donor and U.S. Government.
President | 12.5″ tall Chinese porcelain limited edition figurine titled “Noble Lady.” The figurine is of a standing Mandarin woman with flowers in her hair, wearing a pink tunic over a blue pleated skirt, holding a mirror in her left hand with her right had behind her back; Recd—April 7, 2000; Est. Value—$1200; Archives Foreign | His Excellency Tung Chee Hwa, Chief Executive of the Hong Kong Special Administrative Region of the People's Republic of China | Non-acceptance would cause embarrassment to donor and U.S. Government.
President | 20″ × 23″ oil painting on canvas that depicts a large tree with white leaves and a green, blue, purple, and white garden scene in a 26″ × 29″ gold-tone frame; Recd—April 15, 2000; Est. Value—$1500; Archives Foreign | His Excellency Igor Ivanov, Minister of Foreign Affairs of the Russian Federation | Non-acceptance would cause embarrassment to donor and U.S. Government.
President | 6″ × 12″ porcelain blue-green bulbous-shaped vase by Tokuda Tasokichi; Recd—May 2, 2000; Est. Value—$850; Archives Foreign | His Excellency Yoshiro Mori, Prime Minister of Japan | Non-acceptance would cause embarrassment to donor and U.S. Government.
President | 13 jade stones in varying shades of green that represent masks, birds, and icons of pre-Columbian Costa Rica; Recd—May 9, 2000; Est. Value—$850; Archives Foreign | His Excellency Miguel Angel Rodriguez Echeverria, President of the Republic of Costa Rica | Non-acceptance would cause embarrassment to donor and U.S. Government.
President | 8″ tall abstract silver bust of a man that part polished and part rough finished, #13/24; signed “PCH—Tane 2000”; Recd—May 9, 2000; Est. Value—$1000; Archives Foreign | His Excellency Ernesto Zedillo Ponce de Leon, President of the United Mexican States | Non-acceptance would cause embarrassment to donor and U.S. Government.
President | Four limited edition 2000 Natura Prestige 24 kt. Gold South African coins, each decorated with a sable; Recd—May 22, 2000; Est. Value—$1200; Archives Foreign | Mr. Thabo Mbeki, President of the Republic of South Africa | Non-acceptance would cause embarrassment to donor and U.S. Government.
President | 6.5″ diameter × 1″ deep silver reproduction of an 18th century maritime compass, etched with numerical markings on the front, and dated 1624. Compass has a rotating dial suspended from a white nylon line that is attached to a 15″ wooden tripod stand; Recd—May 30, 2000; Est. Value—$2500; Archives Foreign | His Excellency Antonio Guterres, Prime Minister of Portugal | Non-acceptance would cause embarrassment to donor and U.S. Government.
President | 10″ tall × 5″ wide crystal decanter with a silver neck and a flat 3″ wide lip that bears the Portuguese presidential seal, with a crystal top and globular finial; Recd—May 30, 2000; Est. Value—$275; Archives Foreign | His Excellency Jorge Sampaio, President of the Portuguese Republic | Non-acceptance would cause embarrassment to donor and U.S. Government.
| Green box of nine compact discs. “100 Anos de Fado,” “Mafalda Arnauth,” “O Melhor de Amalia,” “Amalia: 50 Anos,” “Camane,” “Moviemento Perpetuo,” “Carlos do Carmo,” “Lucilia do Carmo” and “Alfredo Marceneiro”; Recd—May 30, 2000; Est. Value—$105; Archives Foreign
| Green leather photo album that contains 8″ × 10″ photographs of the President’s trip to Portugal; Recd—May 30, 2000; Est. Value—$50; Archives Foreign
President | The International Charlemagne Prize of Aachen. Prize includes a 3″ diameter gold vermeil medallion that bears the 12th Century Aachen town seal with Emperor Charlemagne on a throne, and is inscribed to the President in German. Medallion is attached to a yellow ribbon that bears the German Imperial Eagle; Recd-June 2, 2000; Est. Value-$350; Archives Foreign | The Honorable Dr. Juergen Linden, Lord Mayor of Aachen, The Federal Republic of Germany | Non-acceptance would cause embarrassment to donor and U.S. Government.
| (1) Two hardcover books written in German “50 Jahre Internationaler Karlspreis zu Aachen,” and “Der Aachener Dom,” $75. (2) 17″ × 12″ blue folder that bears the Aachen town seal and contains a certificate of the Inauguration Document for the Establishment of the Charelemagne Prize Scholarship, $50. (3) Award certificate held in a 15″ × 12″ black wooden folder that has a silver-tone medallion on the front, $100; Recd-June 2, 2000; Est. Value-$225; Archives Foreign
President | 36″ traditional silver Russian electric samovar set with a floral design and wooden handles that includes a 16″ diameter matching tray and a 6″ diameter bowl; Recd-June 3, 2000; Est. Value-$1000; Archives Foreign | His Excellency Vladimir Putin, President of the Russian Federation | Non-acceptance would cause embarrassment to donor and U.S. Government.
President | (1) Silk tie with a black, pink, blue, yellow, green, and red abstract geometric pattern. (2) Paperback about painting and sculpture; written in Russian. (3) Six hardcover books in Russian. (4) Videotape in Russian. “XX BeK”; Recd-June 4, 2000; Est. Value-$300; Archives Foreign | Ms. Lidia I. Iovleva, First Deputy/Director General, Russian Federation | Non-acceptance would cause embarrassment to donor and U.S. Government.
President | (1) Bottle of Ukrainian wine. (2) Five bottles of Ukrainian liquor; Recd-June 5, 2000; Est. Value-$150; Accepted by Another Government Agency | His Excellency Leonid Kuchma, President of Ukraine | Non-acceptance would cause embarrassment to donor and U.S. Government.
| (1) 19″ × 17″ oil painting on canvas that depicts a courtyard surrounded by blue Ukrainian buildings with gold domes against a blue sky, in a 32″ × 35″ gilt frame $1500. (2) 25″ × 31″ framed portrait of the President against a grey background made out of painted beans, rice, and corn, $750; Recd-June 5, 2000; Est. Value-$2250; Archives Foreign
| 6″ × 8.5″ grey leather certificate portfolio; Recd-June 5, 2000; Est. Value-$10; Archives Foreign
President | (1) Hardcover book. “That Great Victory Day,” inscribed by Valentyn Znoba. (2) 26″ tall bronze bust of the President; Recd-June 5, 2000; Est. Value-$3000; Archives Foreign | His Excellency Viktor Yushchenko, Prime Minister of Ukraine Valentyn Znoba, Kiev, Ukraine | Non-acceptance would cause embarrassment to donor and U.S. Government.
President | 42″ tan leather belt with silver and gold overlaid buckle flanked by six Argentinean coins and decorated with a thistle and flower motif, and monogrammed “WJC”; Recd-June 13, 2000; Est. Value-$600; Archives Foreign | His Excellency Fernando de la Rua, President of the Argentine Nation | Non-acceptance would cause embarrassment to donor and U.S. Government.
President | Wood carving of an Aymara Indian man's head; Recd-June 14, 2000; Est. Value-$450; Archives Foreign | Her Excellency Marlene Fernandez del Granado, Ambassador of the Republic of Bolivia | Non-acceptance would cause embarrassment to donor and U.S. Government.
President | 20″ tall mother-of-pearl and abalone shell vase with a 4″ base, a narrow stem, and a heart-shaped center; Recd-June 15, 2000; Est. Value-$450; Archives Foreign | Mr. Yasser Arafat, Chairman Executive Committee of the Palestine Liberation Organization | Non-acceptance would cause embarrassment to donor and U.S. Government.
President | Red leather-bound book. “Martin Fierro,” by Jose Hernandez, enclosed in a silver-plated hinged wooden box with four square pieces of wood on the lid and an engraved inscription bearing a quote in Spanish by the author; Recd-June 16, 2000; Est. Value-$800; Archives Foreign | His Excellency Fernando de la Rua, President of the Argentine Nation | Non-acceptance would cause embarrassment to donor and U.S. Government.
President | 23″ square mauve, yellow, brown, and red still life oil painting on canvas of a flower vase, a lemon, and apples; in a 28″ square wood frame with a gold-tone plaque that reads “Presented by Robert Kocharyan, President of Armenia”; Recd-June 27, 2000; Est. Value-$350; Archives Foreign | His Excellency Robert Kocharyan, President of the Republic of Armenia | Non-acceptance would cause embarrassment to donor and U.S. Government.
President | Three “Kariyushi Wear” shirts, one is white with gold fu dogs and an orange circular pattern, one is dark grey with a rainbow colored dragon, and the other has grey and white horizontal stripes with a black dragon; Recd-July 19, 2000; Est. Value-$195; Archives Foreign | His Excellency Yoshiro Mori; The Prime Minister of Japan and Mrs. Mori | Non-acceptance would cause embarrassment to donor and U.S. Government.
| Blue lapel pin that reads “G8;” Recd-July 19, 2000; Est. Value-$5; Archives Foreign |  |
| Maroon fabric-covered photo album that commemorates the President's trip to the G-8 summit in Okinawa, Japan; Recd-July 19, 2000; Est. Value-$30; Archives Foreign |  |
President | (1) 2′ × 2′ light and dark brown pottery statue of a shi-shi dog with curled mane and tail, holding a rope in his mouth, on a 28″ × 18″ footed oak stand, $1000. (2) Brown pottery tea set that includes five 2.5″ tall cups, a 4″ tall teapot, a 13″ wooden ladle, and a 6″ × 3″ wooden plaque etched with Japanese characters, $75. (3) 14″ diameter white ceramic dish that is decorated around the edge with broken chips of clear and brown glass, $50; Recd-July 19, 2000; Est. Value-$1125; Archives Foreign | The Honorable Masakazu Nakasone; Mayor of Okinawa City; Japan | Non-acceptance would cause embarrassment to donor and U.S. Government.
| 13″ diameter grey ceramic pottery sake flask with a straw top. The base of the flask is covered with brown woven rope and depicts two fu dogs with a plaque that reads “To the Honorable William J. Clinton, Presented by Masakazu Nakasone, Okinawa City Mayor.” Item arrived at the White House broken beyond repair and was destroyed; Recd-July 19, 2000; Est. Value-$1; Destroyed
| 21” tall white ceramic lamp stand embedded with green, brown and blue glass chips; Recd-July 19, 2000; Est. Value-$80; Archives Foreign
President | (1) 30″ samishen lute (guitar) with a black and brown lacquered neck and snakeskin base, in a 9.5″ × 32″ brown and black snakeskin case, $500. (2) Five 17″ square silk tie-dyed handkerchiefs. Two are blue and white, two are green and yellow, and one is yellow and white, $100. (3) Yellow, tan and brown diagonal striped tie with embroidered geometric patterns, $75. (4) Red, brown, blue, and orange tie with embroidered geometric patterns, $75. (5) Two Sensu paper folding fans. One has a blue background, and the other has a green, yellow and red floral pattern, $30. (6) 10″ × 12″ fan-shaped Shisaa wall hanging with two 3.5″ × 4″ ceramic fu dogs, $45. (7) 8″ × 12″ Shisaa wall hanging with a background made of thin sticks tied together, and two 3.5″ × 4″ ceramic fu dogs, $45. (8) 38″ × 12″ blue table runner with orange, purple, pink, light blue, and yellow embroidered geometric patterns and fringe on both ends, $65. (9) Three 10″ × 16″ blue striped placemats with fringe on both ends, and five 4.5″ square matching coasters, $45; Recd-July 19, 2000; Est. Value-$980; Archives Foreign | The Honorable Hideki Oshiro, Mayor of Onna-Son Japan | Non-acceptance would cause embarrassment to donor and U.S. Government.
President | 10″ × 6.5″ × 2″ black lacquer box painted with detailed gold-tone floral trim and a painting of seven people in a boat on the lid; Recd-July 19, 2000; Est. Value-$800; Archives Foreign | His Excellency Vladimir Putin; President of the Russian Federation | Non-acceptance would cause embarrassment to donor and U.S. Government.
President | Four boxes of mangos; Recd-July 27, 2000; Est. Value-$65; Accepted by Another Government Agency | His Excellency Joseph Ejercito Estrada; The President of the Republic of the Philippines and Mrs. Estrada | Non-acceptance would cause embarrassment to donor and U.S. Government.
| 8″ × 10″ photograph of President Clinton with President Estrada in a 12″ square leather frame that bears a silver seal of the Philippines, and a plaque that reads “President Joseph Ejercito Estrada, President of the Republic of the Philippines”; Recd-July 27, 2000; Est. Value-$250; Archives Foreign
| Two tier mahogany wood drop-leaf serving table with a cream floral inlay pattern, with wheels and a handle. The table is 29″ tall, 34″ wide with the two leafs extended, and 28″ across and includes two matching serving trays. One tray is 21″ × 13″ × 2″ and the other is 26″ × 16″ × 2″; Recd-July 27, 2000; Est. Value-$500; Archives Foreign |  |
| 11″ × 7.5″ × 8″ wooden box with parquetry tortoise shell overlay that stands on four silver miniature buffalo feet, with a buffalo horn finial lid. Box decorated with the Seal of the Philippines. Removable lid has silver banding and silver finial handles; Recd-July 27, 2000; Est. Value-$1500; Archives Foreign
President | 14″ × 10″ silver tray that is inscribed with the Mexican Seal and reads “Al Excelentisimo Senor Presidente de los Estados Unidos de America William Jefferson Clinton, Como Recuerdo de las Visita a los Estados Unidos de America Vincente Fox Quesada, Presidente Electo de Mexico, 24, VIII, 2000;” Recd-August 24, 2000; Est. Value-$1200; Archives Foreign | His Excellency Vicente Fox Quesada; President of the United Mexican States | Non-acceptance would cause embarrassment to donor and U.S. Government.
President | (1) 35.5″x24″ pastel portrait of the President, wearing a light blue traditional long Nigerian over-shirt and a blue, yellow, and white cap, with a black shimmering background, contained in 35″x47″ double wood frame with red velvet lining, $3000. (2) 8′ diameter red, white, and blue leather rug that depicts the American flag, and the Presidential seal in snakeskin, $2500. (3) Four 11″ diameter pillow covers and four 8″ diameter seat covers of the same design, $1300. (4) 96″ diameter green, red, and cream colored leather rug of geometric designs, $2000. (5) 37″x25″ pastel portrait of President Clinton wearing a dark suit with a blue shirt and blue and yellow tie. The background is a shimmering lavendar and work is signed in lower right corner; in a 43″x30″ wood frame. Portrait arrived in the Gift Office with the glass shattered, $1000 as is; Recd—August 25, 2000; Est. Value—$9800; Archives Foreign | The Right Honorable Alhaji Ghali Umar Na'Abba, Speaker of the House of Representatives, National Assembly of the Federal Republic of Nigeria | Non-acceptance would cause embarrassment to donor and U.S. Government.
President | 24″ tall Benin gilt and bronze-plated head of an African goddess with her hair in cone-like shape, titled “The Iya Oba of Oba Akenzua, Monarch of Benin,” Recd—August 26, 2000; Est. Value—$850; Archives Foreign | National Assembly of the Federal Republic of Nigeria | Non-acceptance would cause embarrassment to donor and U.S. Government.
President | 8″ long gold key that reads “Honorary Citizen of the Federal Capital Territory, Abuja, Nigeria;” Recd—August 26, 2000; Est. Value—$350; Archives Foreign | His Excellency Olusegun Obasanjo, The President of the Federal Republic of Nigeria and Mrs. Obasanjo | Non-acceptance would cause embarrassment to donor and U.S. Government.
| (1) 100″ diameter leather embroidered green and white rug, $2100. (2) 18″x12″ green and beige briefcase, $200. (3) 14″x23″ green and beige suitcase, $200. Items 2 and 3 bear a seal that reads “Federal Republic of Nigeria, Presented to His Excellency, President Bill Clinton of the U.S.A. by the Federal Republic of Nigeria in Commemoration of his Visit to Nigeria 26-28 August 2000;” Recd—August 26, 2000; Est. Value—$2500; Archives Foreign
| (1) Hardcover book. “Nigeria: A People United, A Future Assured Volume 2,” $40. (2) Two white baseball caps that read “Nigeria Welcomes President Bill Clinton 26th-28th August, 2000,” $20. (3) Two paperbacks. “Welcome to Nigeria,” and “Nigeria Returns to Democracy,” $20. (4) Two white x-large polo shirts, $40. (5) Four 11″x14″ green cotton placemats that have an orange, green, maroon, and blue tile design with four green cloth napkins and black napkin rings, $40. (6) Four 11″x14″ purple cotton placemats that have an orange yellow, maroon, and blue tile design with four purple cloth napkins and black napkin rings, $40. Items 5-6 read “Nigeria Welcomes President Bill Clinton.” (7) 9.5″x8″ plastic plaque that depicts a gold-tone cut out of Nigeria and reads “Le Niger et ses Deparmements,” $75; Recd—August 26, 2000; Est. Value—$275; Archives Foreign
| (1) 35″x27″ hand drawn portrait of the President and First Lady in traditional Nigerian dress against a red and gray background that bears the Nigerian seal and reads “Unity and Faith, Peace, and Progress.” The President is wearing blue and the First Lady is wearing green, and they are both wearing hats; in 39″x31″ wood frames, $750. (2) 20″x25″ oil painting on canvas of the President and First Lady against a blue background wearing sunglasses, contained in a blue plastic frame, $25; Recd—August 26, 2000; Est. Value—$775; Archives Foreign
| 13″ long black glass panther that sits on a 10″x4″ clear and green display dias; Recd—August 26, 2000; Est. Value—$2000; Archives Foreign
| 22″x11″ African Talking Drum with white, purple, and black stripes around the body and leather strips strung vertically around the drum, with hanging gold-tone bells, and the top reads “Presented by HRM Oba Lamidi Adeyemi III Alaafin of Oyo Nigeria during President Bill Clinton's Official Visit to Nigeria August 2000,” with a 15″ curved green white, and purple stick; Recd—August 26, 2000; Est. Value—$250; Archives Foreign
President | (1) Ten brass-plated 15″ diameter x 16″ tall urns with embossed lids that read “Welcome to Nigeria President Bill Clinton August 26-28, 2000,” $650. (2) Ten 18″ diameter matching brass-plated trays, $450; Recd—August 27, 2000; Est. Value—$1100; Archives Foreign | His Excellency Alhaji Ibrahim Bunu, Minister of Federal Capital Territory of the Federal Republic of Nigeria | Non-acceptance would cause embarrassment to donor and U.S. Government.
President | Hardcover book. “Presidential Homes of Colombia;” Recd—August 30, 2000; Est. Value—$50; Archives Foreign | His Excellency Andres Pastrana, The President of the Republic of Colombia and Mrs. Pastrana | Non-acceptance would cause embarrassment to donor and U.S. Government.
President | Two 11″ diameter nautilus shell fossils. One of the shells arrived at the White Hose damaged; Recd—September 8, 2000; Est. Value—$500; Archives Foreign | His Excellency Didier Ratsiraka, President of the Republic of Madagascar | Non-acceptance would cause embarrassment to donor and U.S. Government.
President | 8″x6″x2″ silver box with wood-lined veneer interior. Lid is engraved to read “Gustavo Noboa Bejarano President Constitutconal de la Republica del Ecuador” and bears a relief of the Ecuadorian seal; Recd—September 9, 2000; Est. Value—$500; Archives Foreign | His Excellency Gustavo Noboa, President of the Republic of Ecuador | Non-acceptance would cause embarrassment to donor and U.S. Government.
President | (1) 16″ tall orange, yellow, and red abstract glass sculpture of Lord Ganesh with a circular body standing on a 3″ tall clear gass base, by artist Anjolie Ela Menon, $3500. (2) Hardcover book. “Anjolie Ela Menon: Paintings in Private Collections,” by Isana Murti, $30. (3) Paperback. “The Sacred Prism II: A Rare Artfest of Revered Images in Murano Glass,” by Gayatri Ruia, $10; Recd—September 13, 2000; Est. Value—$3540; Archives Foreign | His Excellency Atal Bihari Vajpayee, Prime Minister of the Republic of India | Non-acceptance would cause embarrassment to donor and U.S. Government.
| 26″ × 35″ oil painting of the President and First Lady with Jesus Christ blessing them, in a 35″ × 45″ ornate gold-tone frame with a plaque that reads “With Best Compliments From Atal Bihari Vajpayee, Prime Minister of India;” Recd—September 13, 2000; Est. Value—$1500; Archives Foreign
President | 8″ × 4″ × 1.5″ silver box with an etched lid depicting the Piazza Colonna; Recd—September 20, 2000; Est. Value—$650; Archives Foreign | His Excellency Giuliano Amato; President of the Council of Ministers of the Italian Republic | Non-acceptance would cause embarrassment to donor and U.S. Government.
President | 8″ tall silver filigree incense burner with three legs, that stands on a 5.5″ diameter base. Burner has a rounded body with floral motif and small chains dangling off the side; Recd—October 19, 2000; Est. Value—$300; Archives Foreign | Her Excellency Sheikh Hasina, Prime Minister of the People's Republic of Bangladesh | Non-acceptance would cause embarrassment to donor and U.S. Government.
President | (1) Three navy and 18 kt. gold S.T. Dupont pens and pencils. (2) Navy and 18 kt. gold S.T. Dupont lighter; Recd—October 24, 2000; Est. Value—$500; Archives Foreign | His Majesty King Abdullah II bin Hussein of the Hashemite Kingdom of Jordan | Non-acceptance would cause embarrassment to donor and U.S. Government.
President | (1) Blue button down shirt with purple embroidery down the right side and around the cuffs and reads “APEC 2000 Brunei Darussalm,” $40. (2) Maroon and gold-tone Mont Blanc pen, $150; Recd—November 16, 2000; Est. Value—$190; Archives Foreign | His Majesty Sultan Haji Hassanal Bolkiah Mu' Izzaddin Waddaulah; Sultan and Yang Di-Pertuan of Brunei Darussalam | Non-acceptance would cause embarrassment to donor and U.S. Government.
President | Two 82.5″ tall black lacquer temple vases each elaborately inlaid with a mother-of-pearl and abalone shell bird and floral motif and resting on four 14″ tall Fu dog feet with a circular open deck. The vases are 22″ wide at the top, 25″ wide in the middle, and 19″ wide at the base; Recd—November 17, 2000; Est. Value—$9000; Archives Foreign | His Excellency Tran Duc Luong; The President of the Socialist Republic of Vietnam and Madame Vinh | Non-acceptance would cause embarrassment to donor and U.S. Government.
President | (1) Eight bottles of olive oil. (2) Two bottles of Les Vignes de Tanit red wine. (3) Two bottles of Les Vignes de Tanit white wine. (4) Two bottles of Les Vignes de Tanit blush. (5) Two bags of dates; Recd—December 15, 2000; Est. Value—$300; Accepted by Another Government Agency | His Excellency Zine El-Abidine Ben Ali; The President of the Republic of Tunisia and Mr. Ben Ali | Non-acceptance would cause embarrassment to donor and U.S. Government.
| 20″ diameter × 15 ″ tall white and brown leather hollow ottoman. Inside the ottoman are two matching 14″ diameter × 5″ tall leather trays; Recd—December 15, 2000; Est. Value—$350; Archives
President | Michael Audiard ink pen; Recd—December 18, 2000; Est. Value—$500; Archives Foreign | His Excellency Jacques Chirac, President of the French Republic | Non-acceptance would cause embarrassment to donor and U.S. Government.
President and First Lady | 12″ × 16″ silver framed photograph of the King and Queen of Spain in official dress, incribed by the donors; Recd—January 19, 1993; Est. Value—$400; Archives Foreign | Their Majesties The King and Queen of Spain | Non-acceptance would cause embarrassment to donor and U.S. Government.
President and First Lady | For the President: Three silk Pellicano ties, with the President's name embroidered on the back. One is royal blue with black dots, one is maroom with light blue and tan stripes, and the third is steel blue with brown and black dots, $225. For the First Lady: 33″ × 28″ Ferragamo silk scarf, trimmed in light pink silk, and embroidererd with pink and yellow roses and a gold-tone braided rope, $245; Recd—December 23, 1999; Est. Value—$470; Archives Foreign | His Excellency Massimo D'Alema; President of the Council of Ministers of the Italian Republic | Non-acceptance would cause embarrassment to donor and U.S. Government.
| Blue fabric-covered photo album with 8″ × 10 ″ photographs of the President and First Lady's visit to Italy; Recd—December 23, 1999; Est. Value—$50; Archives Foreign
President and First Lady | For the President: Six 8″ × 5″ limited edition reproductions of drawings by 17th century Spanish artist Diego Velazquez. Two drawings depict women's faces, one depicts a man's face, two depict a human figure, and one depicts a city scape; each is matted in a 19″ × 14″ white mat, $300. For the First Lady: Two 11.5″ tall royal blue crystal “Crystal de la Granja” reproduction decanters with gilt hand-painted leaves and grapes, and tops that depict the Spanish coat of arms, $300, Recd—February 23, 2000; Est. Value—$600; Archives Foreign | Their Majesties The King and Queen of Spain | Non-acceptance would cause embarrassment to donor and U.S. Government.
President and First Lady | (1) Shinepukur eight piece bone white china set with a ½″ gold and silver half circle border pattern and a thin silver inner circle border, made in Bangladesh. Set includes: (a) 14″ oval serving platter; (b) 4″ tall creamer; (c) 5″ tall sugar bowl with lid; (d) 9″ diameter bowls; (e) 10.5″ plates; (f) 8″ salad plates; (g) 3″ coffee cups; (h) 5.5″ saucers; (i) 9″ serving bowl; (j) 7.5″ tea pot with lid; (k) 11″ inscribed sample plate. Set is $1025. (2) 11″ × 12″ silver fishing boat model encased in a 12″ × 14″ plastic case with a red plastic base inscription that reads “With Compliments to His Excellency Mr. William J. Clinton President of the United States of America from Sheikh Hasina, Compliments of the People's Republic of Bangladesh, $1000. (3) 30″ × 18″ gold-tone ornate frame that contains a silk embroidered tapestry that depicts an Indian village of people farming, rowing, fishing, and harvesting, with a pink and green floral border, $650; Recd—March 19, 2000; Est. Value—$2675; Archives Foreign | Her Excellency Sheikh Hasina, Prime Minister of the People's Republic of Bangladesh | Non-acceptance would cause embarrassment to donor and U.S. Government.
President and First Lady | (1) 24″ × 17″ mother-of-pearl and abalone shell shadow box Nativity that reads “Bethlehem” and “2000” across the front, $1200. (2) 17″ long × .5″ wide 18 kt. gold florentine oval link necklace, $1200. (3) 8″ matching bracelet, $600; Recd—April 20, 2000; Est. Value—$3000; Archives Foreign | Mr. Yasser Arafat, Chairman Executive Committee of the Palestine Liberation Organization | Non-acceptance would cause embarrassment to donor and U.S. Government.
President and First Lady | Signed photograph of the donor in a 10″ × 15″ wood inlay frame that bears the royal seal of Denmark; Recd—April 28, 2000; Est. Value—$200; Archives Foreign | His Royal Highness Prince Joachim, Denmark | Non-acceptance would cause embarrassment to donor and U.S. Government.
| 12″ tall Royal Copenhagen blue crystal vase with a silver rim; Recd—April 28, 2000; Est. Value—$1200; Archives Foreign |  |
President and First Lady | 6″ × 5″ Orrefors lead crystal vase etched with the royal seal of Sweden; Recd—April 28, 2000; Est. Value—$500; Archives Foreign | Her Royal Highness Crown Princess Victoria, Sweden | Non-acceptance would cause embarrassment to donor and U.S. Government.
President and First Lady | (1) 8″ × 6″ × 5″ black lacquer jewelry box with a lock and a key that has a red and blue tassel, $300. (2) Two small black lacquer bowls with lids, two saucers, and two spoons. All items have an opal inlay with a dragonfly and flower motif, $150; Recd—May 25, 2000; Est. Value—$450; Archives Foreign | The Honorable Jong-Kenun You, Governor of Chollabuk-do South Korea | Non-acceptance would cause embarrassment to donor and U.S. Government.
President and First Lady | For the President: (1) Hardcover book. “Glittering Islands: Okinawa,” published by the Okinawa Prefectural Government and embossed with the Summit logo, $60. (2) Black chinkin lacquerware bowl with black wooden stand; the bowl is embossed with a gold-tone border, flowers and leaves, $75. (3) 10″ square brown leather framed poem, “Hearts of Peace,” $75. (4) 15″ × 11″ photograph of Japanese calligraphy that reads “Namkai Shochi” from the Kyushu-Okinawa Summit 2000, $50. For the First Lady: White gold choker necklace with a Tibetan pearl pendant, $850; Recd—July 19, 2000; Est. Value—$1110; Archives Foreign | The Honorable Keiichi Inamine, Governor of Okinawa Prefecture, Japan | Non-acceptance would cause embarrassment to donor and U.S. Government.
President and First Lady | (1) Large hardcover book. “The Nature of Japan 2000,” commissioned by H.I.H. Prince Norihito Takamado, with a preface by Mayuma Moriyama, $200. (2) 5″ mauve silk peonie contained in a clear plastic box with a black bottom that bears an American flag in the bottom left corner, $45. (3) 11″ × 6″ × 2″ black lacquer letter box with a red interior. Lid has a mother-of-pearl inlay that depicts a dragon with a large starburst design above its head, $500. (4) 28″ × 14″ pink, blue, green, yellow, brown, orange, and purple painting on fabric that depicts four large birds on leaves of grass, matted in a 20″ × 38″ cherry wood frame, $650; Recd—July 19, 2000; Est. Value—$1395; Archives Foreign | His Excellency Yoshiro Mori, The Prime Minister of Japan and Mrs. Mori | Non-acceptance would cause embarrassment to donor and U.S. Government.
President and First Lady | (1) 21″ × 19″ mother-of-pearl and abalone shell arched shadow box Nativity with a large star at the center of the arch and reads “2000” across the bottom, and “Bethlehem” to the left of star, item arrived at the White House slightly broken, $1000. (2) Three piece jewelry set that includes: (a) choker necklace with oblong links and a 5″ center drape design set with small diamonds on each side, $1750; (b) bracelet set with small diamonds on each side, $750; (c) pair of earrings with set with small diamonds at the center, $700. Each piece is 18 kt. gold; Recd—July 21, 2000; Est. Value—$4200; Archives Foreign | Mr. Yasser Arafat, Chairman Executive Committee of the Palestine Liberation Organization | Non-acceptance would cause embarrassment to donor and U.S. Government.
President and First Lady | For the President: Chess set that includes a 15″ square board with a light wooden frame and mirrored checker pattern; one side's pieces are made from clear glass and the other made from dull glass, $350. For the First Lady: 6″ × 7″ watercolor painting of two African women collecting wood in a forest, with a beige and gold-tone mat, in a 17″ square green wood frame, $250; Recd—August 7, 2000; Est. Value—$600; Archives Foreign | His Majesty Mswati III, King of the Kingdom of Swaziland | Non-acceptance would cause embarrassment to donor and U.S. Government.
President and First Lady | For the President: (1) Brown, beige, and black button-front long-sleeve shirt, $75. (2) 38″ × 24″ gold wood framed shadow box that displays a puppet that depicts an Indonesian god, $350. For the First Lady: Two pink table runners with silver embroidery and purple, yellow, green, and white embroidered flowers, one is 68″ × 16″, and the other is 60″ × 34″, $80; Recd—August 23, 2000; Est. Value—$505; Archives Foreign | His Excellency Abdurrahman Wahid, The President of the Republic of Indonesia and Mrs. Wahid | Non-acceptance would cause embarrassment to donor and U.S. Government.
President and First Lady | (1) 9″ tall silver water pitcher with a brown hardened coconut shell middle section, $500. (2) 7″ diameter silver platter with a scalloped rim, engraved with the seal of the President of Colombia, $350; Recd—August 30, 2000; Est. Value—$850; Archives Foreign | His Excellency Andres Pastrana, The President of the Republic of Colombia and Mrs. Pastrana | Non-acceptance would cause embarrassment to donor and U.S. Government.
President and First Lady | (1) 18″ × 12″ × 4″ red leather briefcase with an elephant motif and interior compartments, $350. (2) Pair of gold earrings with a pearl hanging from two leaves, $300. (3) Maroon silk shalwar kameez with a gold-tone floral pattern that includes a top, a pair of pants, and a 36″ × 96″ shawl, $300. (4) 13″ long red and green cotton purse with cinch top and has mirror inserts, $35. (5) 80″ × 18″ black and white striped shawl with fringe on the ends, $65. (6) 80″ × 18″ red shawl with a black border, green, yellow, and blue stripes, and fringe on the ends, $45. (7) 64″ × 40″ blue, red, and black large striped shawl, $65. (8) 64″ × 40″ black shawl with small black and white stripes in the center bordered by thin red, green, and yellow stripes, $45; Recd—October 19, 2000; Est. Value—$1205; Archives Foreign | Her Excellency Sheikh Hasina, Prime Minister of the People's Republic of Bangladesh | Non-acceptance would cause embarrassment to donor and U.S. Government.
President and First Lady | (1) 5.5″ diameter silver dish with a cabochon sapphire, engraved in Arabic, $350. (2) 4″ silver bracelet with three 3″ tassels and encrusted with small sapphires, $450; Recd—October 23, 2000; Est. Value—$800; Archives Foreign | Their Majesties King Abdullah II and Queen Rania Al Abdullah, Jordan | Non-acceptance would cause embarrassment to donor and U.S. Government.
President and First Lady | For the President: 17″ × 19″ mother-of-pearl and abalone shell arched shadow box Nativity that reads “2000” across the center, and “Bethlehem” on the base, $1200. For the First Lady: Four piece matching jewelry set containing: (a) Gold choker necklace with oblong links and a 4″ center drape design, set with small diamonds, $1800. (b) Gold bracelet set with small diamonds in the three center links, $1200. (c) Pair of gold drop earrings set with small diamonds around the borders and three small diamonds in each drop, $800. (d) Oval-shaped ring with small diamonds around the border and three small diamonds in the center, $550; Recd—November 9, 2000; Est. Value—$5550; Archives Foreign | Mr. Yasser Arafat, Chairman Executive Committee of the Palestine Liberation Organization | Non-acceptance would cause embarrassment to donor and U.S. Government.
First Family | For the President: (1) Large hardcover book. “Rajasthan: The Living Traditions,” $75. (2) Two 5″ × 6″ jade stone frog statues, one is white with gold-tone and red features, and the other is green, $400. (3) Bottle of Floris cologne that is etched with the President's signature, $100. For the First Lady: (1) 7″ × 5″ silver ornate three section cosmetic box in the shape of a mango tree branch with three fruits and curling leaves, $850. (2) 60″ × 48″ beige and tan woven tasar handspun silk fabric, $150. For Chelsea Clinton: 50″ × 73″ bandhej gajji silk dupatta stole with a black, red, gold-tone, yellow, and purple circular twist pattern, $250; Recd—March 22, 2000; Est. Value—$1825; Archives Foreign | Mr. Ashok Gehlot, Chief Minister, Government of Rajasthan India | Non-acceptance would cause embarrassment to donor and U.S. Government.
First Family | For the President: Four brochures welcoming the President to Rajasthan, $5. For the First Lady: (1) Medium beige and red flowered dressing gown with a large floral pattern on the outside and a small floral pattern on the inside, $250. (2) 86″x62″ beige cotton quilt with a pink and green floral pattern and is bordered with a brown, green, and pink floral pattern; inside of quilt has a small pink floral pattern, $350. For Chelsea Clinton: (1) 68″ × 45″ white painted scarf that has a pink, green, blue, and white floral border and a matching floral design in the center of the scarf, $35. (2) Long pink, green, blue, and white floral skirt with a maroon border, $45; Recd—March 23, 2000; Est. Value—$1035; Archives Foreign | Ms. Bina Kak, Minister of State for Tourism, Government of Rajasthan India | Non-acceptance would cause embarrassment to donor and U.S. Government.
First Family | 21″ × 24″ crackled gilt wood framed and green matted original antique hand-colored map of “The Holy Land” with its division among the Twelve Tribes of Israel and an inset small map of the route of the “Exodus from Egypt to the Promised Land,” drawn by Ch. Weigel circa 1720; Recd—March 28, 2000; Est. Value—$500; Archives Foreign | His Excellency Ariel Sharon, Member of the Knesset of Israel | Non-acceptance would cause embarrassment to donor and U.S. Government.
First Family | For the President: 13.5″ long gold dagger with a curved blade. Sheath is decorated with five emeralds, each surrounded by diamonds. Ivory hilt has one emerald surrounded by diamonds, and a cluster of diamonds at the top. Blade is decorated with Arabic calligraphy and symbols, $3000. For the First Lady and Chelsea Clinton: (1) 12.5″ tall two-handled handpainted vase with brass banding, handles and applique, $250. (2) 10.5″ tall handpainted ewer with brass base, handle, lip, and four applied geometric appliques, $200. (3) 8″ tall handpainted ewer with brass base, lip and handle, $75; Recd—June 20, 2000; Est. Value—$3525; Archives Foreign | His Majesty Mohamed VI, King of Morocco | Non-acceptance would cause embarrassment to donor and U.S. Government.
First Family | For Chelsea Clinton: (1) Two 120″ × 42″ pieces of iridescent orange fabric with a gold-tone, blue, and light blue floral design, $250. (2) 180″ × 42″ piece of iridescent green fabric with embroidered yellow flowers and maroon ends, $175. For the First Lady and Chelsea Clinton: Two sets of six sterling silver napkin rings that read “Brunei” and have a floral inlay design, $540. For the First Family: Hardcover book with a green velvet cover. “The State Mufti's Fatwa Monetary Issues,” $50. For the President: (1) Two 120″ × 42″ pieces of iridescent green fabric embroidered with gold-tone thread and small green, blue, and orange diamond shapes, $250. (2) Six hardcover books. Two copies of “Brunei Darussalam: The Country, The Sultan, The People,” “Pemimpin Era Baru: Leader of the New Era,” “Brunei: An Islamic Nation.” “APEC Young Artists Exhibition,” and “Abode of Peace: 25 of Asia's Top Photographers in Brunei Darussalam,” $160. (3) Two CD-ROMs. “Pemimpin Era Baru: Leader of the New Era” and “APEC Young Artists Exhibition,” $30. (4) 12″ × 14″ × 3″ wooden box that reads “Leader of the New Era, APEC 2000,” $30. (5) 12″ long kris with a curved wooden handle and a wooden case with a gold-tone seal, $300. (6) Eight paperbacks. “Open Economies Delivering to People: APEC's Decade of Progress,” “Update of Activities November 2000,” “2000 Report on Economic and Technical Cooperation: Ministerial Meeting XII,” “2000 APEC Economic Outlook: Report by the Economic Committee,” “Committee on Trade and Investment: Annual Report to Ministers 2000,” “Towards Knowledge-Based Economies in APEC,” “Report of the Executive Director of the APEC Secretariat to the 12th Ministerial Meeting,” and “Building the Future of APEC Economies: Move Forward on the New Economy and Entrepreneurship.” All items were prepared by APEC, $50. (7) Compact disc. “www.apec-ecotech.org, APEC Ecotech Clearing House,” by APEC, $15. (8) Man's 18 kt. white gold case and band Piaget Asprey watch; the face bears the seal of Brunei, $6500. (9) Black large jacket that reads “APEC 2000 Brunei Darussalam,” $60. (10) Blue cloth photo album that is embroidered to read “APEC 2000 Brunei Darussalam” and contains 8″ × 10″ photographs of the APEC Summit, $75. (11) 14″ × 15.5″ green cloth with a gold-tone embroidered border and reads “APEC 2000 Jame Asr Hassanil Bolkiah Brunei Darussalam,” framed and matted in a 18″ × 20″ gold-tone frame, $75. (12) 11″ × 16″ black leather briefcase with gold-tone buckles and zippers on the sides that reads “APEC 2000,” $80. (13) Two magazines. “Far Eastern Economic Review” and “Asia Inc.” $5. (14) Three 8″ × 12″ pads of paper that read “APEC 2000 Brunei Darussalam,” $10; Recd—November 16, 2000; Est. Value—$8655; Archives Foreign | His Majesty Sultan Haji Hassanal Bolkiah Mu′ Izzaddin Waddaulah, Sultan and Yang Di-Pertuan of Brunei Darussalam | Non-acceptance would cause embarrassment to donor and U.S. Government.
First Family | For Chelsea Clinton: 42″ long wooden traditional Vietnamese musical instrument with one string and abalone shell inlay on the ends and the sides that depict flowers, dragons, and Vietnamese people, $200. For the First Lady: (1) Scalloped fan-shaped silver box with birds and a floral design on the lid, a farming scene on the sides, with red velvet interior, $350. (2) 22″ × 31″ yellow, green, orange, and black handwoven tapestry that depicts Vietnamese fisherman in two canoes on a river at sunset, framed and matted in a 33″ × 42″ wood frame with a plaque that reads “With Compliments from President of S.R. Vietnam Tran Duc Luong and Madame,” $600. (3) Pink photo album of pictures of the First Lady and Chelsea in Vietnam, $30. For the President: (1) 42 hardcover books. “Tong Tap Van Hoc Vietnam Tron Bo 42 Tap: Volumes 1-42,” published by Nha Xuat Ban Khoa Hoc Xa Hoi, $840. (2) Green photo album of pictures of the President in Vietnam, $30; Recd—November 17, 2000; Est. Value—$2050; Archives Foreign | His Excellency Tran Duc Luong, The President of the Socialist Republic of Vietnam and Madame Vinh | Non-acceptance would cause embarrassment to donor and U.S. Government.
First Family | For the President: 9.5″ tall Waterford crystal piece with an etching of the President that reads “Presented to the President of the United States of America, Mr. Bill Clinton, by the Taoiseach, Mr. Bertie Ahern, T.D., 12th December 2000.” Item stands on a 10″ × 2″ × 4″ black wooden base, $800. For the First Lady: Six silver napkin rings that are engraved with special marks commemorating the Millennium, $390. For Chelsea: Set of six silver stamps celebrating the Millennium, $150; Recd—December 12, 2000; Est. Value—$1340; Archives Foreign | His Excellency Bertie Ahern, Prime Minister of Ireland | Non-acceptance would cause embarrassment to donor and U.S. Government.
First Family | (1) 6″ × 8″ black leather purse with a suede inner purse that is covered with a hard leather exterior with 1″ diameter holes and round metal handles, $375. (2) 16″ × 12″ × 5″ navy leather briefcase, $600. (3) 24″ × 14″ × 9″ navy leather suitcase, $1200. All items made by Tanner Krolle; Recd—December 13, 2000; Est. Value—$2175; Archives Foreign | The Right Honorable Tony Blair, M.P., Prime Minister United Kingdom | Non-acceptance would cause embarrassment to donor and U.S. Government.
First Lady | (1) Two bags of coffee. (2) Four boxes of chocolates. (3) Box of nuts and dates. (4) Two containers of mineral salt. (5) Two containers of Middle Eastern candies. (6) Jar of dried flowers. (7) 600 ml of Rivage Natural Dead Sea Minerals Body Mud Mask. (8) Bottle of clear, unmarked liquid. (9) Bottle of Al-Derra. (10) Two Jordan River all natural olive oil soap bars; Recd—January 5, 2000; Est. Value—$125; Accepted by Another Government Agency (1) 74″ × 106″ cream-colored tablecloth with a green border and an orange, yellow, and green butterfly motif, $165. (2) 15″ × 72″ gold-tone table runner with gold balls along the edges, $45. (3) 14″ diameter purple and white floral handpainted relish tray in a wooden basket, $50. (4) 3″ × 5.5″ straw pouch. $5; Recd—January 5, 2000; Est. Value—$265; Archives Foreign | Her Majesty Rania al Abdullah, Queen of the Hashemite Kingdom of Jordan | Non-acceptance would cause embarrassment to donor and U.S. Government.
First Lady | 14″ bronze statue of a runner with one hand raised and the other holding a torch, that sits on a 5.5″ × 1″ bronze base that reads “A. Racko”; Recd—January 10, 2000; Est. Value—$350; Archives Foreign | His Excellency Rudolf Schuster, The President of the Slovak Republic and Mrs. Schusterova | Non-acceptance would cause embarrassment to donor and U.S. Government.
First Lady | Ornate gold vermeil tea set with grey floral motif. Set includes a 15″ tall electric samovar with a rooster finial, six tea cups with matching saucers, two cream pitchers, a sugar bowl, and a 20″ × 15″ oval serving tray; Recd—February 15, 2000; Est. Value—$5000; Archives Foreign | His Excellency Heydar Aliyev, President of the Republic of Azerbaijan | Non-acceptance would cause embarrassment to donor and U.S. Government.
First Lady | Twelve 5.5″ silver dessert spoons and forks with a gold vermeil and green depiction of a Korean palace on each utensil handle; Recd—February 23, 2000; Est. Value—$1000; Archives Foreign | Mrs. Lee Hee Ho, First Lady of the Republic of Korea | Non-acceptance would cause embarrassment to donor and U.S. Government.
First Lady | 2.5″ long × 1.5″ tall box from the Silver Collection of the Royal Palace of Madrid. Box is gold vermeil with a finial that depicts two silver doves and has silver bows and ribbons around the sides; Recd—February 24, 2000; Est. Value—$350; Archives Foreign | Their Majesties The King and Queen of Spain | Non-acceptance would cause embarrassment to donor and U.S. Government.
First Lady | 75″ × 50″ brown, green, red, blue, purple, and pink salawas cotton rug with a primitive motif; Recd—March 21, 2000; Est. Value—$150; Archives Foreign | The Honorable Anshuman Singh, Governor of Rajsthan, India | Non-acceptance would cause embarrassment to donor and U.S. Government.
First Lady | (1) 32″ ornate gold-tone belt, encrusted with red, green orange jewels set in 1.5″ paisley and circular patterns throughout the length of the belt, $900. (2) 22″ gold vermeil necklace with linked charms, doves, and glass jewels that descend 5″, $250; Recd—April 3, 2000; Est. Value—$1150; Archives Foreign | His Excellency Ali Abdullah Saleh, President of the Republic of Yemen | Non-acceptance would cause embarrassment to donor and U.S. Government.
First Lady | 12″ square black lacquer wood cabinet that with a gold Japanese nature scene on an amber-glittered door, with a purple tassel handle; Recd—May 2, 2000; Est. Value—$2500; Archives Foreign | His Excellency Yoshiro Mori, Prime Minister of Japan | Non-acceptance would cause embarrassment to donor and U.S. Government.
First Lady | 1.5″ × 2″ 18 kt. gold rectangle with engraved pictures of Queen Noor and King Hussein; Recd—May 12, 2000; Est. Value—$650; Archives Foreign | Her Majesty Queen Noor al Hussein, Jordan | Non-acceptance would cause embarrassment to donor and U.S. Government.
First Lady | Bouquet of roses, lilies, peonies, and gladiolas; Recd—May 22, 2000, Est. Value—$125; Accepted by Another Government Agency | Mr. Thabo Mbeki, President of the Republic of South Africa | Non-acceptance would cause embarrassment to donor and U.S. Government.
| Twelve silver napkin holders, three each in the shape of lions, elephants, cheetahs, and rams; Recd—May 22, 2000; Est. Value—$360; Archives Foreign
First Lady | Three piece jewelry set that includes a necklace, pair of earrings, and bracelet. Each piece is 18 kt. gold with circular links that have diamond chips around blue sapphires; Recd—June 1, 2000; Est. Value—$5550; Archives Foreign | Mr. Yasser Arafat, Chairman Executive Committee of the Palestine Liberation Organization | Non-acceptance would cause embarrassment to donor and U.S. Government.
First Lady | 7.5″ silver letter opener with a rhodochrosite stone, engraved with “Republica Argentina VI 2000”, Recd—June 13, 2000; Est. Value—$200; Archives Foreign | His Excellency Fernando de la Rua, President of the Argentine Nation | Non-acceptance would cause embarrassment to donor and U.S. Government.
First Lady | Cream and gold-tone silk and lace traditional Moroccan dress with a gold-tone and cream embroidered lace floral overlay; Recd—June 16, 2000; Est. Value—$500; Archives Foreign | His Majesty Mohamed VI, King of Morocco | Non-acceptance would cause embarrassment to donor and U.S. Government.
First Lady | Large bouquet of flowers that includes yellow calla lilies, pink, peach, and bronze-colored roses, peach lupine, fuchsia gerber daisies, cream-colored and purple dendrobium orchids, banana leaves, yellow spider mums, yellow and pink cocks comb, and purple heather; Recd—June 22, 2000; Est. Value—$500; Accepted by Another Government Agency | His Majesty Mohamed VI, King of Morocco | Non-acceptance would cause embarrassment to donor and U.S. Government.
First Lady | 11.5″ tall x 3″ wide solid bronze statue of a woman with long hair wearing a flowing dress with her arms folded in front of her waist; Recd—July 4 2000; Est. Value—$750; Archives Foreign | His Excellency Rudolf Schuster, The President of the Slovak Republic and Mrs. Schusterova | Non-acceptance would cause embarrassment to donor and U.S. Government.
First Lady | Peruvian silver pen set that includes a ballpoint and faux ink well, and is mounted on a 5″ x 6″ base of black marble; Recd—September 4, 2000; Est. Value—$500; Archives Foreign | Mrs. Keiko Sofia Fujimori, First Lady of Peru | Non-acceptance would cause embarrassment to donor and U.S. Government.
First Lady | 7″ x 1.25″ 22 kt. gold reversible bracelet with five links of diamonds on one side, and red and green enamel on the other, with screw clasp; Recd—September 13, 2000; Est. Value—$8500; Archives Foreign | His Excellency Atal Bihari Vajpayee, Prime Minister of Republic of India | Non-acceptance would cause embarrassment to donor and U.S. Government.
First Lady | 14″ diameter x 10″ tall white porcelain scalloped with a 6” square marble base, that contains pink and white tiger lillies, peach-colored amaryllises, pink and purple hydrangea, purple cocks comb, blue bells, and assorted greenery; Recd—November 9, 2000; Est. Value—$300; Accepted by Another Government Agency | His Excellency Abdelsam Jaidi, Consul General of the Kingdom of Morocco | Non-acceptance would cause embarrassment to donor and U.S. Government.
First Lady | 6″ x 18″ white ovular ceramic planter holding white and orange lillies, red roses, white hydrangea, banana leaves, red gerbert daisies, purple dendrobium orchids, and blue bells; Recd—November 9, 2000; Est. Value—$500; Accepted by Another Government Agency | His Majesty Mohamed VI, King of Morocco | Non-acceptance would cause embarrassment to donor and U.S. Government.
First Lady | 2″ 22 kt. gold brooch in the shape of a “Bunga Simpor” flower, set with diamonds and burgundy coral beads; Recd—November 17, 2000; Est. Value—$2000; Archives Foreign | Her Royal Highness Pengiran Isteri Hajjah Mariam binti Haji Abdul Aziz, Second Wife of Sultan of Brunei | Non-acceptance would cause embarrassment to donor and U.S. Government.
First Lady | 21″ tall x 18″ wide x 32.5″ long wooden table with three sides painted with a gold-tone, green, red, blue, pink, and black enamelled pattern of dragons, flowers, and swirls. Table has gold-tone top and one shelf; Recd—December 5, 2000; Est. Value—$1200; Archives Foreign | Her Majesty Ashi Dorji Wangmo Wangchuck, Queen of Bhutan | Non-acceptance would cause embarrassment to donor and U.S. Government.
First Lady | (1) Black leather Bernard-Richards watch with a gold-tone face, $350. (2) 34″ x 34″ red, pink, orange, and yellow Hermes scarf with a swirl and star pattern, $150; Recd—December 18, 2000; Est. Value—$500; Archives Foreign | His Excellency Jacques Chirac, President of the French Republic | Non-acceptance would cause embarrassment to donor and U.S. Government.
First Lady and Chelsea | For the First Lady: Women's brown and white Gobi cashmere turtleneck sweater. For Chelsea Clinton: Women's Gobi cashmere light aqua short-sleeved sweater; Recd—January 16, 2000; Est. Value—$300; Archives Foreign | His Excellency Jalbuugiin Choinhor, Ambassador of the Republic of Mongolia | Non-acceptance would cause embarrassment to donor and U.S. Government.
First Lady and Chelsea | Two traditional Bangladeshi silk and cotton blended six yard sarees. One is rose-colored with gold thread and is made of thicker silk that measures 222″ x 49″, $150. The other is white with a gold border that measures 150” x 53”, and is accompanied by a smaller matching shawl that measures 90″ x 35″, $175; Recd—March 19, 2000; Est. Value—$325; Archives Foreign | Her Excellency Sheikh Hasina, Prime Minister of the People's Republic of Bangladesh | Non-acceptance would cause embarrassment to donor and U.S. Government.
First Lady and Chelsea | For the First Lady: 2″ 18 kt. white gold Chatila brooch in the shape of a flower, set with diamonds and topaz stones, $5000. For Chelsea Clinton: 18 kt. white gold Royal Diamond watch with a black leather alligator strap with diamonds and onyx stones set in the watch face, $1875; Recd—November 17, 2000; Est. Value—$6875; Archives Foreign | Her Majesty Paduka Seri Baginda Raja Isteri Pengiran Anak Hajah Saleha binti Al-Marhum Pengiran Pemancha Pengiran Anak Haji Mohamed Alam, First Wife of Sultan of Brunei | Non-acceptance would cause embarrassment to donor and U.S. Government.
President and Chelsea | (1) Four wooden bowls with hand carved designs. Two are 10″ in diameter and dark brown on the outside with a fish and lizard motif on the inside, $50. Two are natural colored on the outside, one 13″ in diameter, and one 14″ in diameter, $70. One is carved to read “Presented to President Bill Clinton By Senator Khairat Abdul-Razaq Gwadabe,” and two read “Presented to Chelsea Clinton,” around the rims, $130. (2) 46″ × 70″ purple cloth banner and fringe on one end that depicts the shape of Nigeria, with photographs of President Clinton and President Obasanjo, and reads “President Clinton Welcome to Nigeria, 26th to 28th August, 2000,” $150; Recd—August 25, 2000; Est. Value—$400; Archives Foreign | The Honorable Senator Khairat Abdulrasaq-Gwadabe, National Assembly of the Federal Republic of Nigeria | Non-acceptance would cause embarrassment to donor and U.S. Government.
Chelsea | (1) Blue, teal, and cream-colored silk scarf depicting characters edged in black and detailed in silver, $65. (2) Black leather purse with a teal and blue fabric flap, $250; Recd—March 21, 2000; Est. Value—$315; Archives Foreign | His Excellency Kocheril Raman Narayanan, The President of India and Mrs. Narayanan | Non-acceptance would cause embarrassment to donor and U.S. Government.
Chelsea | 22″ tall cloth doll wearing a traditional red, green, and beige Russian dress with a hat and wicker shoes, set on a display stand; Recd—July 19, 2000; Est. Value—$150; Archives Foreign | His Excellency Vladimir Putin, President of the Russian Federation | Non-acceptance would cause embarrassment to donor and U.S. Government.
Chelsea | Pair of pre-Columbian 18 kt. gold circular earrings with emeralds in the center; Recd—August 30, 2000; Est. Value—$250; Archives Foreign | His Excellency Andres Pastrana, The President of the Republic of Columbia and Mrs. Pastrana | Non-acceptance would cause embarrassment to donor and U.S. Government.
Chelsea | 1.5″ wide 18kt. gold butterfly-shaped brooch; Recd—August 30, 2000; Est. Value—$550; Archives Foreign | The Honorable Miguel E. Raad Hernandez, Governor of the Department of Bolivar Columbia | Non-acceptance would cause embarrassment to donor and U.S. Government.
Chelsea | 24″ × 32″ oil painting on panel of Chelsea Clinton wearing a blue skirt and top, looking over her shoulder at a women a red and yellow sari walking through an arched doorway of an Indian temple with beige, maroon, and green walls, in a 32″ × 42″ ornately carved wood frame; Recd—September 13, 2000; Est. Value—$18000; Archives Foreign | His Excellency Atal Bihari Vajpayee, Prime Minister of the Republic of India | Non-acceptance would cause embarrassment to donor and U.S. Government.
Karen Tramontano, Assistant to the President and Counselor to the Chief of Staff | 18 yards of gold brocade and blue cloth; recd—March 24, 2000; Est. Value—$3585; General Services Administration | Her Excellency Sheikh Hasina, Prime Minister of the People's Republic of Bangladesh | Non-acceptance would cause embarrassment to donor and U.S. Government.
Samuel Berger, Assistance to the President for National Security Affairs | (1) 79″ wide V-shaped black shawl with a hand embroidered woven border, $350. (2) Three piece jewelry set that includes a 17″ clasp necklace, $1400; a 8″ clasp bracelet, $750; and a pair of pierced earrings, $300. Each piece is made 18 kt. gold linked rounds; Recd—May 20, 2000; Est. Value—$2800; Recipient purchased item from General Services Administration | Mr. Yasser Arafat, Chairman Executive Committee of the Palestine Liberation Organization | Non-acceptance would cause embarrassment to donor and U.S. Govenrment.
| Red and black lady's lined jacket, $200; Recd—May 20, 2000; Est. value—$200; Recipient purchased item from General Services Administration
Samuel Berger, Assistant to the President for National Security Affairs | 12″ × 14″ oil painting on canvas of an impressionist forest scene with trees, in a 3.5″ wide gold frame; Recd—May 24, 2000; Est. Value—$550; General Services Administration | His Excellency Mugur Isarescu, Prime Minister of Romania | Non-acceptance would cause embarrassment to donor and U.S. Government.
Arturo Valenzuala, Special Assistant to the President and Senior Director | South American silver powder horn with attached chain and incised floral motif; Recd—September 5, 2000; Est. Value—$425; General Services Administration | Her Excellency Marlene Fernandez del Granado, Ambassador of the Republic of Bolivia | Non-acceptance would cause embarrassment to donor and U.S. Government.

[FR Doc. 01-4280 Filed 2-26-01; 8:45 am]

BILLING CODE 4710-20-M